DEPARTMENT OF DEFENSE

Office of the Secretary

32 CFR Part 79

[Docket ID: DOD-2011-OS-0124]

RIN 0790-AI81

Child Development Programs (CDPs)

AGENCY: Office of the Secretary, Department of Defense (DoD).

ACTION: Interim final rule.

SUMMARY: This interim final rule updates policy, responsibilities, and procedures for providing care to minor children birth through age 12 years of individuals who are eligible for care in DoD CDPs to include center-based care, family child care (FCC), school-age care (SAC), supplemental child care, and community based care; authorizes the publication of supporting guidance for the implementation of CDP policies and responsibilities, including child development training modules, program aids, and other management tools; and establishes the DoD Effectiveness Rating and Improvement System (ERIS).

DATES: Effective date: This rule is effective May 16, 2014.

Comment date: Comments must be received by July 15, 2014.

ADDRESSES: You may submit comments, identified by docket number and/or RIN number and title, by any of the following methods:

• Federal Rulemaking Portal: http://www.regulations.gov. Follow the instructions for submitting comments.

• Mail: Federal Docket Management System Office, 4800 Mark Center Drive, 2nd Floor, East Tower, Suite 02G09, Alexandria, VA 22350-3100.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Eddy Mentzer, 571-372-0857.

SUPPLEMENTARY INFORMATION:

Justification for Interim Final Rule

This interim final rule provides overarching policy to the Military Departments in the execution of their roles in providing quality child development programs that ensure the safety and well-being of children in the DoD's care. A 2012 Secretary of Defense directed audit of criminal background check processes for all DoD Child and Youth Services personnel revealed the need areas for all applicable directives to be updated to ensure current and accurate policy is incorporated. The White House and Secretary of Defense directed a priority review of the management and oversight of child and youth programs in 2013. The review noted variation in Service-level approaches to oversight inspections including headquarters-level comprehensive inspections and installation-level fire, health, and safety inspections. The report recommended the OSD promulgate guidance to ensure standardization and clarity. Defense child development program staff and leadership have committed to the SECDEF and White House that they are committed to improving the consistency by which these services are delivered and to ensure the safety and well-being of children in our care. This interim final rule addresses these recommendations and creates a stronger environment of standardization across the services.

This interim final rule identifies the applicability of 32 CFR part 56, “Nondiscrimination on the Basis of Handicap in Programs and Activities Assisted or conducted by the Department of Defense” that implement section 504 of the Rehabilitation Act for federally conducted and federally assisted programs as they apply to children and youth with special needs. This interim final rule expands previous policy by (1) Requiring procedures for reviewing and making reasonable accommodation of children with special needs that do not fundamentally alter the nature of the program; (2) considering the needs of the child, the disability, and the environment of group care in child development facilities or home-based care, staffing needs and training requirements, and resources of the program; and (3) including Child Development Programs as part of the multi-disciplinary Inclusion Action Team that supports families of children with special needs.

This interim final rule extends child care benefits to same-sex spouse of Military Service members. At the direction of the President, the Department has conducted a careful and deliberative review of benefits currently provided. The Department has now identified family member and dependent benefits that we can lawfully provide to same-sex spouse and their children through changes in DoD policies and regulations. These benefits shall be extended to same-sex spouse and, where applicable, children of same-sex spouses.

Executive Summary

I. Purpose of the Regulatory Action

a. This interim final rule proposes to: (a) update policy, responsibilities, and procedures for providing care to minor children birth through age 12 years of individuals who are eligible for care in Department of Defense Child Development Programs (CDP) to include center-based care, family child care (FCC), school-age care (SAC), supplemental child care, and community based care; (b) authorize the publication of supporting guidance for the implementation of CDP policies and responsibilities, including child development training modules, program aids, and other management tools; and (c) establish the DoD Effectiveness Rating and Improvement System (ERIS).

b. The legal authority for the regulatory action is found in 10 U.S.C. 1783, 1791 through 1800, 2809, and 2812.

II. Summary of the Major Provisions of the Regulatory Action In Question

a. The rule combines the instructions for DoD's Child Development Programs and School-Age Care Programs. This will ensure continuity of operations among programs providing child care services to children from the ages of birth to 12 years.

b. The rule implements sections 1791 through 1800 of Title 10 of the United States Code, commonly referred to as the Military Child Care Act. The updates reiterate the DoD's goal to support the personnel and mission of DoD by providing child development programs to eligible patrons and reaffirms the parent/sponsor's shared role in providing for the cost of child care. The rule affirms and does not alter the oversight requirements to ensure continued compliance with Federal mandates and statutory requirements and provides clarifying guidance related to staff qualifications, training and compensation. No changes were made to policy related to the early identification and reporting of alleged child abuse and neglect in DoD CDPs, requirements to meet national accreditation standards, and funding requirements as directed in sections 1791 through 1800 of Title 10 U.S.C.

c. The authority to provide supporting guidance for the implementation of CDP policies and responsibilities, including child development training modules, program aids, and other management tools is reaffirmed with no changes.

d. The rule establishes the DoD Effectiveness Rating and Improvement System (ERIS), for use in assessing facility-based child care in communities outside of the military installation. The ERIS is compatible with Thirteen Indicators of Quality Child Care: Research Update (Fiene, 2002) and many state licensing requirements. This assessment supports the States' efforts to develop and improve Quality Rating and Improvement Systems (QRIS) for child care programs and provides a foundation of research-based indicators of quality. Through the use of the ERIS recommendations and State QRIS and other quality improvement efforts, DoD can identify child care providers who meet quality indicators and may be eligible to receive subsidy payments to buy down the cost of care for military families.

e. This rule extends benefits to same-sex domestic partners of Military Service members and DoD civilians, at the direction of the President and the Secretary of Defense.

III. Costs and Benefits

This rule is intended to support the workforce and mission of the DoD. Quality child care programs within the DoD reduce the stress of families who have the primary responsibility for the health, safety and well-being of their children and help them balance the competing demands of family life and the DoD mission. CDPs provide access and referral to available, affordable, quality programs and services that meet the basic needs of children, from birth through age 12 years, in a safe, healthy, and nurturing environment.

The DoD Child Care Program is funded through a combination of DoD funding and user fees charged to parents. The annual user cost is estimated at approximately $9,636,000 for DoD retirees and contractors. This total includes 235 retirees (100 in Child Development Centers and 135 in School Age Programs) and 2,174 contractors (1,583 in Child Development Centers and 591 in School Age Programs). The annual cost is estimated at $4,000 per child. The user cost varies and is determined by calculating total family income. Costs for the annual reporting requirement as estimated to be $24,000 per year (all costs are attributed to the Military Services). The vast majority of users are made up of military members. Other user groups are active duty military and DoD Civilians.

Regulatory Procedures

Executive Order 12866, “Regulatory Planning and Review” and Executive Order 13563, “Improving Regulation and Regulatory Review”

It has been determined that 32 CFR part 79 is a significant regulatory action as it does raise novel legal or policy issues arising out of legal mandates, the President's priorities, or the principles set forth in these Executive Orders.

However, 32 CFR part 79 does not:

(1) Have an annual effect on the economy of $100 million or more;

(2) Adversely affect in a material way the economy; a section of the economy; productivity; competition; jobs; the environment; public health or safety; or State, local, or tribal governments or communities;

(3) Create a serious inconsistency or otherwise interfere with an action taken or planned by another Agency;

(4) Materially alter the budgetary impact of entitlements, grants, user fees, or loan programs, or the rights and obligations of recipients thereof.

Section 202, Public Law 104-4, “Unfunded Mandates Reform Act”

It has been certified that 32 CFR part 79 does not contain a Federal mandate that may result in expenditure by State, local and tribal governments, in aggregate, or by the private sector, of $100 million or more in any one year.

Public Law 96-354, “Regulatory Flexibility Act” (5 United States Code (U.S.C.) 601)

It has been certified that 32 CFR part 79 is not subject to the Regulatory Flexibility Act (5 U.S.C. 601) because it would not, if promulgated, have a significant economic impact on a substantial number of small entities. Costs are to the users of the child development facilities. The vast majority of users are made up of military members. Other user groups are DoD Civilians, retirees and contractors.

Public Law 96-511, “Paperwork Reduction Act” (44 U.S.C. Chapter 35)

Sections 79.6(c)(2)(i)(A) and 79.6(c)(6) of this interim final rule contain information collection requirements. DoD has submitted the following proposal to OMB under the provisions of the Paperwork Reduction Act (44 U.S.C. Chapter 35). Comments are invited on: (a) whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology.

DD FORM 2606

Title: Department of Defense Child Development Program Request for Care Record.

Type of Request: New.

Number of Respondents: Approximately 2,500 annually.

Responses per Respondent: 1.

Annual Responses: Approximately 2,500.

Average Burden per Response: 10 minutes.

Annual Burden Hours: 416 hours.

Needs and Uses: To collect applicant information for CDPs and place applicants on waiting lists for program services. Information compiled from applicants is also used to assist management determination of effectiveness of present and projection of future program requirements.

Affected Public: Patrons at DoD CDPs.

Frequency: Once, upon request for care at DoD CDPs and annually thereafter.

Respondent's Obligation: Disclosure is voluntary; however, failure to furnish requested information will result in an incomplete request for care record and possible loss of placement on CDP waiting lists.

DD FORM 2652

Title: Application for Department of Defense Child Care Fees.

Type of Request: New.

Number of Respondents: Approximately 2,500 annually.

Responses per Respondent: 1.

Annual Responses: Approximately 2,500.

Average Burden per Response: 10 minutes.

Annual Burden Hours: 416 hours.

Needs and Uses: A family's child care fee category is determined based on an initial and subsequent annual verification of total family income (TFI). Families pay the child care fee assigned to that TFI category. A family's fees may only be adjusted once per year, with exceptions listed in paragraph (c)(2)(i)(E) of this section. Total Family Income is determined utilizing DD Form 2652.

Affected Public: Patrons at DoD CDPs.

Frequency: Once, upon initial enrollment at DoD CDPs and annually thereafter.

Respondent's Obligation: Disclosure is voluntary; however, failure to furnish requested information will result in the respondent being placed in the highest category for CDP fees.

DD FORM X656

Title: Basic Criminal History and Statement of Admission.

Type of Request: New.

Number of Respondents: Approximately 5,000 annually.

Responses per Respondent: 1.

Annual Responses: 5,000.

Average Burden per Response: 10 minutes.

Annual Burden Hours: 832 hours.

Needs and Uses: The form will be used to collect general information in regards to criminal background checks, prior convictions for crimes and references, which, by law, are required for child care workers. Additionally, the form will be used to track statements of conviction on an annual basis.

Affected Public: Applicants to DoD CDPs.

Frequency: Once, upon initial application and annual recertification thereafter.

Respondent's Obligation: Required to obtain or retain benefits; failure to furnish requested information or providing incorrect information will result in the individual being prevented from working within a DoD CDP.

OMB Desk Officer:

Written comments and recommendations on the proposed information collection should be sent to Ms. Jasmeet Seehra at the Office of Management and Budget, DoD Desk Officer, Room 10102, New Executive Office Building, Washington, DC 20503, with a copy to Eddy Mentzer at the Office of the Deputy Assistant Secretary of Defense, Military Community and Family Policy, Office of Children and Youth, 4800 Mark Center Drive—Room 3G015, Alexandria, VA 22350. Comments can be received from 30 to 60 days after the date of this notice, but comments to OMB will be most useful if received by OMB within 30 days after the date of this notice.

You may also submit comments, identified by docket number and title, by the following method:

* Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

To request more information on this proposed information collection or to obtain a copy of the proposal and associated collection instruments, please write to Eddy Mentzer, Office of the Deputy Assistant Secretary of Defense, Military Community and Family Policy, Office of Children and Youth, 4800 Mark Center Drive—Room 03G15, Alexandria, VA 22350. Phone: 571.372.0857.

Executive Order 13132, “Federalism”

It has been certified that 32 CFR part 79 does not have federalism implications, as set forth in Executive Order 13132. This rule does not have substantial direct effects on:

(1) The States;

(2) The relationship between the National Government and the States; or

(3) The distribution of power and responsibilities among the various levels of Government.

List of Subjects in 32 CFR Part 79

Child development programs, Child welfare, Infants and children.

Accordingly, 32 CFR part 79 is added to read as follows:

PART 79—CHILD DEVELOPMENT PROGRAMS (CDPs)

Sec.
79.1 Purpose.
79.2 Applicability.
79.3 Definitions.
79.4 Policy.
79.5 Responsibilities.
79.6 Procedures.

Authority: 10 U.S.C. 1783, 1791 through 1800, 2809, and 2812.

§ 79.1 Purpose.

This part:

(a) Reissues DoD Instruction (DoDI) 6060.2 in accordance with the authority in DoD Directive (DoDD) 5124.02, “Under Secretary of Defense for Personnel and Readiness (USD(P&R))” (available at http://www.dtic.mil/whs/directives/corres/pdf/512402p.pdf) and DoD Instruction 1342.22, “Military Family Readiness” (available at http://www.dtic.mil/whs/directives/corres/pdf/134222p.pdf) and the requirements of DoDD 1020.1

(b) Updates established policy, assigns responsibilities, and prescribes procedures for providing care to minor children (birth through age 12 years) of individuals who are eligible for care in DoD CDPs. This includes:

(1) Center-based care and community-based care.

(2) Family child care (FCC).

(3) School-age care (SAC).

(4) Supplemental child care.

(c) Cancels DODI 6060.3

(d) Implements 10 United States Code (U.S.C.) 1791 through 1800.

(e) Authorizes the publication of supporting guidance for the implementation of CDP policies and responsibilities, including child development training modules, program aids, and other management tools.

(f) Establishes the DoD Effectiveness Rating and Improvement System (ERIS), in accordance with 10 U.S.C. 1791 through 1800.

§ 79.2 Applicability.

This part applies to the Office of the Secretary of Defense, the Military Departments, the Office of the Chairman of the Joint Chiefs of Staff and the Joint Staff, the Combatant Commands, the Office of the Inspector General of the Department of Defense, the Defense Agencies, the DoD Field Activities, and all other organizational entities within the DoD (hereinafter referred to collectively as the “DoD Components”).

§ 79.3 Definitions.

Unless otherwise noted, these terms and their definitions are for the purpose of this part.

Accreditation. Verification that a CDP has been assessed by an appropriate, external national accrediting body and meets the standards of quality established by that body.

Affiliated family child care (FCC). Home-based child care services that are provided by licensed individuals in homes located off of the installation, who agree to comply with the standards outlined in this part.

Appropriated funds (APF). Funds appropriated by Congress and received by the U.S. Government as tax dollars.

APF employees. Civilian employees hired by DoD Components with APF. Includes temporary employees, 18 years or older.

Caregiver. For the purpose of determining priority, a parent or an individual who performs the functions of a parent.

Caregiving personnel. Civilian employees of a CDP who are directly involved with the care and supervision of children and are counted in the staff to child ratios.

Child development program (CDP). Child care services for children of DoD personnel from birth through 12 years of age.

CDP employee. A civilian employed by the DoD to work in a DoD CDP (regardless of whether the employee is paid from APF or NAF).

Child(ren). A person under 18 years of age for whom a parent, guardian, or foster parent, is legally responsible.

Child care fees. NAF derived from fees paid by Military members and other authorized users of child care services provided at a military CDC or other DoD-approved facility-based CDP. Also referred to as user fees or parent fees.

Child care hour. One hour of care provided to one child. If a provider cares for six children for 10 hours, that is the equivalent of 60 child care hours.

Combat related wounded warrior. A term referring to the entire population of wounded, ill and injured Service members and veterans who have incurred a wound, illness, or injury for which the member was awarded the Purple Heart or whose wound, illness, or injury was incurred as a direct result of armed conflict or while engaged in hazardous service or in the performance of duty under conditions simulating war, or through an instrumentality of war.

Direct care personnel. Staff members whose main responsibility focuses on providing care to children and youth.

DoD CDP Employee Wage Plan. The wage plan that uses a NAF pay banding system to provide direct service personnel with rates of pay substantially equivalent to other employees at the installation with similar training, seniority, and experience. Pay increases and promotions are tied to completion of training. Completion of training is a condition of employment. This wage plan does not apply to CDPs constructed and operated by contractors under DoDI 1015.15, “Establishment, Management and Control of Nonappropriated Fund Instrumentalities and Financial Management of Supporting Resources” (see http://www.dtic.mil/whs/directives/corres/pdf/101515p.pdf).

DoD Certification to Operate. Certification issued to each DoD CDP after the program has been inspected by a representative(s) of the DoD Component or a major command, and found to be in compliance with DoD standards in § 79.6, paragraphs (a), (c)-(f), (i) and (j).

DoD Child Abuse and Safety Hotline. A hotline (found at DoD's Military Homefront Web site) required by 10 U.S.C. 1794 that enables parents and visitors to anonymously report suspected child abuse or safety violations at a military CDP or home.

Eligible patron. Patrons who qualify for CDP services, to include active duty Military Service members, DoD civilian employees paid from APF and NAF, Reserve Component Military Service members on inactive duty training, combat related wounded warriors, surviving spouses of military members who died from a combat related incident, eligible employees of DoD contractors, other Federal employees, and those acting in loco parentis of the aforementioned eligible patrons.

Eligible employee of a DoD contractor. An employee of a DoD contractor or subcontractor, or individual under contract or subcontract to DoD, who requires physical access to DoD facilities at least two days out of a work week.

Facility-based program. Refers to child care that is provided within a building, structure, or other improvement to real property. Does not include FCC homes.

Family child care (FCC). Home-based child care services that are provided for Military Service members, DoD civilian employees, or eligible employees of a DoD contractor by an individual who is certified by the Secretary of the Military Department or Director of the Defense Agency or DoD Field Activity concerned as qualified to provide those services, and provides those services for 10 hours or more per week per child on a regular basis for compensation. Also referred to as family home day care, family home care, child development homes, and family day care.

FCC administrator. DoD civilian employees or contract personnel, either APF or NAF, who are responsible for FCC program management, training, inspections, and other services to assist FCC providers. Includes program directors, monitors, outreach workers, United States Department of Agriculture (USDA) CACFP monitors, and administrative personnel.

FCC provider. An individual 18 years of age or older who provides child care for 10 hours or more per week per child on a regular basis in his or her home with the approval and certification of the commanding officer, and has responsibility for planning and carrying out a program that meets the children's needs at their various stages of development and growth.

Family member. For a Military Service member, the member's spouse or unmarried dependent child, or an unmarried dependent child of the member's spouse. For an eligible DoD civilian employee or eligible employee of a DoD contractor, the employee's spouse or same-sex domestic partner, or unmarried dependent child of the employee, employee's spouse, or the employee's same-sex domestic partner.

Financial hardship. A severe hardship resulting from, but not limited to: Sudden and unexpected illness or accident of the spouse or the same-sex domestic partner of an eligible DoD Civilian employee; loss of the spouse's or eligible DoD Civilian's same-sex domestic partner's employment or wages; property damage not covered by insurance; extraordinary and unforeseeable circumstances arising as a result of events beyond the control of the patron.

Full-day care. This care meets the needs of parents working outside the home who require child care services 6 hours or more per day on a regular basis, usually at least 4 days per week.

Hourly care. Care provided in a CDP that meets the needs of parents requiring short-term child care services on an intermittent basis. Hourly care includes on-site group care.

Individual with a disability. A handicapped person as defined in 32 CFR part 56, in accordance with 29 U.S.C. 705, also known as “Section 7 of The Rehabilitation Act of 1973,” as amended, and consistent with 42 U.S.C. 12102, also known as “The Americans with Disabilities Act, as amended”. Synonymous with the phrase “person with a disability.”

Identification Action Team. A multidisciplinary team that supports families of children with special needs that consider the needs of the child, the disability, and the environment of group care in child development facilities or home-based care, staffing needs and training requirements, and the resources of the program.

Infant. A child, aged birth through 12 months.

In loco parentis. In the place or position of a parent. An “in loco parentis” relationship is one in which a person takes on the role of a lawful parent by assuming the obligations and discharging the duties of a parent without formally becoming an adoptive parent or legal guardian. The child(ren) must reside with and be supported by the person. A special power of attorney to act “in loco parentis” is required to be on file.

Military approved community based program. Military approved child care available to geographically dispersed eligible families.

Military CDP facility. A facility on a military installation or operated by a DoD Component at which child care services are provided for Military Service members or DoD civilian employees or any other facility at which such child care services are provided that is operated by the Secretary of a Military Department.

Military installation. Defined in 32 CFR 238.3.

Mixed-age group. A group of children that includes children from more than one age group.

Multidisciplinary inspection team. An inspection team led by a representative of the installation commander with authority to verify compliance with standards.

Non-appropriated funds (NAF). Funds derived from CDP fees paid by eligible patrons.

NAF employees. Civilian employees hired by DoD Components and compensated from NAFI funds. Includes temporary employees, 18 years or older.

Off-site group care. An option which provides child care on an occasional rather than a daily basis and allows on-site hourly group care when parents of children in care are attending command functions in the same facility.

On-site group care. A child care program that provides on-site hourly group child care when a parent or guardian of the children in care are attending the same function and are in the same facility.

Operational hardship. A program's inability to operate at full capacity due to documented staffing shortages.

Parent. The biological father or mother of a child; a person who, by order of a court of competent jurisdiction, has been declared the father or mother of a child by adoption; the legal guardian of a child; or a person in whose household a child resides at least 25 percent of the time in any month, provided that such person stands in loco parentis to that child and contributes at least one-half of the child's support.

Parent board. A group established pursuant to 10 U.S.C. 1783 and 1795 comprised of parents who are also Military Service members, retired Military Service members, or spouses of Military Service members or retired Military Service members of children attending DoD CDPs, including FCC. This board shall act in an advisory capacity, providing recommendations for improving services. The board shall meet periodically with staff of the CDP. The board, with the advice of the program staff, shall be responsible for developing and overseeing the implementation of the parent participation program in accordance with 10 U.S.C. 1795.

Parent participation plan. A planned group of activities and projects established by the Parent Board to encourage parents to volunteer in CDPs, including special events and activities (such as field trips, holiday events, and special curriculum programs), small group activities, special projects (such as playground improvement, procurement of equipment, and administrative aid), and parent education programs and training workshops to include child abuse prevention education for parents.

Part-day care. This care meets the needs of parents working outside the home who require child care services on a seasonal or regularly scheduled part-day basis for fewer than 6 hours per day, usually fewer than 4 days per week.

Preschool-age. Children 36 months through 5 years of age.

Pre-toddler. A child 13 months through 24 months of age.

Qualifying children. Children of an eligible patron or their spouse or the same-sex domestic partner of eligible DoD civilian employees.

Resource and referral (R&R). A service that provides information about child care services on and off the installation to meet patrons' child care needs and maximize use of available sources of child care.

Respite child care. Care for children that provides a parent or guardian temporary respite from their role as a primary caregiver.

Same-sex domestic partner. A person in a same-sex domestic partnership with a uniformed service member, civilian employee or employee of a DoD contractor of the same-sex.

Same-sex domestic partnership. A committed relationship between two adults of the same-sex in which the partners:

(1) Are each other's sole same-sex domestic partner and intend to remain so indefinitely;

(2) Are not married (legally or by common law) to, joined in civil union with, or in a same-sex domestic partnership with anyone else;

(3) Are at least 18 years of age and mentally competent to consent to contract;

(4) Share responsibility for a significant measure of each other's common welfare and financial obligations;

(5) Are not related in a way that, if they were of opposite sex, would prohibit legal marriage in the state or U.S. jurisdiction in which they reside; and,

(6) Maintain a common residence and intend to continue the arrangement (or would maintain a common residence but for the requirements of military service, an assignment abroad, or other employment-related, financial, or similar obstacle).

School age care (SAC). Either facility-based or home-based care for children ages 6-12, or those attending kindergarten, who require supervision before and after school, or during duty hours, school holidays, or school closures.

School-age children. Children aged 6 years through 12, or attending kindergarten through sixth grade, enrolled in a SAC program.

Screen time. Time spent watching television, playing video games, or on the computer.

Special needs. Children with special needs are children who may need accommodations to make child care accessible or may otherwise require more than routine and basic care; including children with or at risk of disabilities, chronic illnesses and physical, developmental, behavioral, or emotional conditions that require health and related services of a type or amount beyond that required by children in general.

Staff:child ratio. The number of children for whom individual caregiving personnel or FCC providers shall be responsible.

Sudden Infant Death Syndrome (SIDS). The sudden, unexplained death of an infant younger than 1 year old.

Supplemental child care. Child care programs and services that augment and support CDC and FCC programs to increase the availability of child care for military and DoD civilian employees. These may include, but are not limited to, resource and referral services, contract-provided services, short-term, hourly child care at alternative locations, and interagency initiatives.

Support staff. Person(s) responsible for providing services not directly related to direct child care services, such as, but not limited to, janitorial, food service, clerical, and administrative duties.

Surviving spouse. A spouse of a Service member who dies on active duty, active duty training, inactive duty training, or within 120 days after release from active duty if the death is due to a service-related disability.

Third party administrator (TPA). An independent organization or entity contracted to perform identified services on behalf of the plan administrator. These services may include clerical and administrative functions such as enrollment and claims administration, payment of subsidies to providers and information services.

Toddler. A child between the ages of 24 and 36 months of age.

Total family income (TFI). Includes all earned income including wages, salaries, tips, long-term disability benefits, voluntary salary deferrals, basic allowance for housing Reserve Component/Transit (BAH RC/T) and subsistence allowances and in-kind quarters and subsistence received by a Military Service member, civilian employee, a spouse, or, in the case of an eligible DoD civilian employee, the same-sex domestic partner, and anything else of value, even if not taxable, that was received for providing services. BAH RC/T and subsistence allowances mean the Basic Allowance for Quarters and the Basic Allowance for Subsistence received by military personnel and civilian personnel when provided (with respect to grade and status) and the value of meals and lodging furnished in-kind to military personnel residing on military bases.

Training & curriculum specialist—Personnel whose main responsibility is providing training and oversight to other CDC or SAC employees.

Unmet need. The number of children whose parents cannot work outside the home because child care is not available.

Waiting list. List of children waiting for a CDP space and whose parents have requested space in a CDP and none is available.

§ 79.4 Policy.

In accordance with DoD Instruction 1342.22, and 10 U.S.C. 1783, 1791 through 1800, 2809, and 2812, it is DoD policy to:

(a) Ensure that the CDPs support the mission readiness, family readiness, retention, and morale of the total force during peacetime, overseas contingency operations, periods of force structure change, relocation of military units, base realignment and closure, and other emergency situations (e.g. natural disasters, and epidemics). Although child care supports working parents, it is not an entitlement and parents must pay their share of the cost of child care.

(b) Reduce the stress of families who have the primary responsibility for the health, safety and well-being of their children and help them balance the competing demands of family life and the DoD mission. CDPs provide access and referral to available, affordable, quality programs and services that meet the basic needs of children, from birth through 12 years of age, in a safe, healthy, and nurturing environment.

(c) Conduct an annual internal certification process to ensure that all installation-operated CDPs are operating in accordance with all applicable Federal mandates and statutory requirements.

(d) Provide child care to support the personnel and the mission of DoD. Eligibility is contingent on the status of the sponsor.

(1) Eligible patrons include:

(i) Active duty military personnel

(ii) DoD civilian employees paid from either appropriated funds (APF) or non-appropriated funds (NAF).

(iii) Reserve Component military personnel on active duty or inactive duty training status.

(iv) Combat related wounded warriors.

(v) Surviving spouses of Military members who died from a combat related incident.

(vi) Those acting in loco parentis for the dependent child of an otherwise eligible patron.

(vii) Eligible employees of DoD contractors.

(viii) Others authorized on a space available basis.

(2) In the case of unmarried, legally separated parents with joint custody, or divorced parents with joint custody, children are eligible for child care only when they reside with the Military Service member or eligible civilian sponsor at least 25 percent of the time in a month that the child receives child care through a DoD program. There may be exceptions as addressed in § 79.6.

(e) Promote the cognitive, social, emotional, cultural, language and physical development of children through programs and services that recognize differences in children and encourage self-confidence, curiosity, creativity, self-discipline, and resiliency.

(f) Employ qualified direct program staff whose progression from entry level to positions of greater responsibility is determined by training, education, experience, and competency. Ensure that civilian employees maintain their achieved position and salary as they move within the military child care system.

(g) Certify qualified FCC providers who can support the mission requirements of the installation.

(h) Facilitate the availability and expansion of quality, affordable, child care off of military installations that meet the standards of this part to ensure that geographically dispersed eligible families have access to legally operating military-approved community-based child care programs.

(i) Promote the early identification and reporting of alleged child abuse and neglect in DoD CDPs in accordance with DoD Directive 6400.1, “Family Advocacy Program (FAP)” (see http://www.dtic.mil/whs/directives/corres/pdf/640001p.pdf).

(j) Ensure that funding is available to meet Military Child Care Act requirements pursuant to 10 U.S.C. 1791 through 1800 and protect the health, safety, and well-being of children in care.

§ 79.5 Responsibilities.

(a) The Assistant Secretary of Defense for Readiness and Force Management (ASD(R&FM)), under the authority, direction, and control of the USD (P&R) shall:

(1) Monitor compliance with this part by personnel under his or her authority, direction, and control.

(2) Annually review and issue a child care fee policy based upon total family income (TFI) for use by programs in the DoD child development system of care.

(b) The Deputy Assistant Secretary of Defense for Military Community and Family Policy (DASD(MC&FP)), under the authority, direction, and control of the ASD(R&FM), shall:

(1) Work across functional areas of responsibility and collaborate with other federal and non-governmental organizations to ensure access to a continuum of quality, affordable CDPs.

(2) Program, budget, and allocate funds and other resources to meet the objectives of this part.

(3) Issue DD Form 2636, “Child Development Program, Department of Defense Certificate to Operate,” to the Military Departments for each CDP found to be in compliance with this part.

(4) Require that the policies and related documents are updated and relevant to the program.

(5) Report DoD Component program data to support legislative, research, and other requirements.

(c) The Heads of the DoD Components shall:

(1) Establish implementing guidance and ensure full implementation within 12 months of the publication date, consistent with this part, to monitor compliance through regular inspection of CDPs and follow-up oversight actions as needed.

(2) Program, budget, and allocate funds and other resources to meet the requirements of this part.

(3) Establish a priority system for all patrons seeking to enroll children in CDPs in accordance with paragraph (a) of § 79.6.

(4) Assess DoD Component demand and take appropriate action to address the child care capability needed on and off the installation in accordance with paragraph (g) of § 79.6.

(5) Establish a hardship waiver policy to address financial and operational situations.

(6) Submit fiscal year annual summary of operations reports to the DASD(MC&FP) by December 30 of each year using Report Control Symbol DD-P&R(A) 1884, “Department of Defense Child Development Program (CDP) Annual Summary of Operations.”

(7) Require that background checks are conducted for individuals who have contact with children in DoD CDPs in accordance with DoDI 1402.5, “Criminal History Background Checks on Individuals in Child Care Services” (available at http://www.dtic.mil/whs/directives/corres/pdf/140205p.pdf) and 32 CFR part 86 and paragraph (c)(1) of § 79.6.

(8) Require that all individuals who have contact with children in a DoD CDP complete a DD Form X656 “Basic Criminal History and Statement of Admission”.

(9) Require that each CDP establishes a Parent Board in accordance with 10 U.S.C. 1783 and 1795.

(10) Forward the results of DoD Component inspections to the DASD(MC&FP).

(11) Ensure that all incidents that occur within a DoD CDP and involve allegations of child abuse or neglect, revocation of accreditation, or hospitalization of a child, are reported to DASD (MC&FP) through the Office of Family Policy (OFP/CY) within 72 hours of the incident.

(12) Notify the DASD(MC&FP) through OFP/CY if, at any time, a facility in the CDP is closed due to a violation (see paragraph (c)(4)(ii) of § 79.6, for more information on violations).

(13) Provide the DASD(MC&FP) through OFP/CY with a copy of applications made in accordance with DoD Instruction 5305.5, “Space Management Procedures, National Capital Region” (see http://www.dtic.mil/whs/directives/corres/pdf/530505p.pdf) and 40 U.S.C. 590 to the U.S. General Services Administration (GSA) for building space for use in providing child care for DoD personnel, and comply with GSA standards for funding and operation of child care programs in GSA-controlled space.

(i) Where the DoD is the sole sponsoring agency and the space has been delegated to the DoD by the GSA, the space must comply with the requirements prescribed in this part.

(ii) For the National Capital Region, space acquisition procedures in DoD Instruction 5305.5 shall be used to gain the assignment of space in Government-owned or Government-leased facilities from the GSA.

(14) Require that CDPs follow the recommendations of the Advisory Committee on Immunization Practices (ACIP) and comply with generally accepted practices endorsed by the American Academy of Pediatrics (AAP) and Centers for Disease Control or the latest guidance provided by OFP/CY.

(15) Establish and implement DoD Component-specific child care fees based on the DoD-issued fee policy on an annual basis, and issue supplemental guidance on fees for school-age programs, hourly care, preschool programs, DoD Component approved community-based programs, and FCC subsidies. Submit DoD Component-specific requests for waiver for any deviation from DoD policy, including selection of the high or low cost fee option, to the Office of the DASD (MC&FP) through OFP/CY for approval.

(16) Establish guidelines for communication between command, installation, and educational and behavioral support systems.

(17) Require that all military installations under their authority follow guidance that addresses the ages and circumstances under which a child under 13 years of age can be left at home alone without adult supervision, also known as a “home alone policy,” or “self-care policy.” The installation commander should approve this policy in consultation with the installation director of the Family Advocacy Program. Guidance is consistent with or more stringent than applicable laws and ordinances of the State and country in which the installations are located.

(18) Establish guidance and operating procedures to provide services for children with special needs in accordance with 32 CFR part 56, “Nondiscrimination on the Basis of Handicap in Programs and Activities Assisted or conducted by the Department of Defense” that implement section 504 of the Rehabilitation Act for federally conducted and federally assisted programs and 42 U.S.C. 12102, “The American Disabilities Act” as they apply to children and youth with special needs.

(i) Require procedures for reviewing and making reasonable accommodation for children with special needs that do not fundamentally alter the nature of the program.

(ii) Consider the needs of the child, the disability, and the environment of group care in child development facilities or home-based care, staffing needs and training requirements, and the resources of the program.

(iii) Include CDPs as part of the Multidisciplinary Inclusion Action Team that supports families of children with special needs.

(19) Establish guidance and operating procedures to provide services for children of the deployed.

(20) Establish standard risk management procedures for responding to emergency or contingency situations. This includes, but is not limited to, natural disasters, pandemic disease outbreaks, allegations of child abuse or neglect, active shooter, or an installation or facility lockdown.

(21) Require that vehicles used to transport children comply with Federal motor vehicle safety standards in accordance with 49 U.S.C. 30125 and applicable State or host nation requirements.

(22) Notify applicable civilian patrons annually of their potential tax liability associated with child care subsidies, and ensure that information required by the third party administrator (TPA) is provided in accordance with 26 U.S.C. 129.

(23) Require that a current plan to implement direct cash subsidies to military-approved child care providers to expand the availability of child care spaces and meet specialized child care needs, such as weekend and evening care, special needs, deployment support, and respite child care support, is in place.

(d) The Secretaries of the Military Departments, in addition to the responsibilities in paragraph (c) of this section, shall:

(1) Work with the Heads of the DoD Components to implement CDPs in accordance with this part.

(2) Notify the OFP/CY of any Service-wide specific requirements that will require a waiver to deviate from existing policy.

(e) The Installation Commanders (under the authority, direction, and control of the Secretary of the Military Department concerned) shall:

(1) Require that CDPs within his or her jurisdiction are in compliance with this part.

(2) Require that child care fees are used in accordance with DoD Instruction 5305.5 and paragraph (c)(2) of § 79.6.

(3) Require that CDP direct program staff are paid in accordance with Volume 1405 of DoD Instruction 1400.25, “DoD Civilian Personnel Management System: Nonappropriated Fund (NAF) Pay and Allowances” (available at http://www.dtic.mil/whs/directives/corres/pdf/1400.25-V1405.pdf). Ensure 75 percent of the program's direct program staff total labor hours are paid to direct program staff who are in benefit status.

(4) Require that there are adequate numbers of qualified professional staff to manage the CDPs according to the Service manpower and child space staffing requirements and referenced in paragraphs (c) and (d) of § 79.6 of this part.

(5) Manage child care priority policy, as directed by their respective DoD Component.

(6) Manage hardship waiver policy (financial and operational), as directed by their respective DoD Component.

(7) Review and validate the demand for installation child care capacity and take appropriate action to expand the availability of care as needed. See paragraph (h) of § 79.6 of this part.

(8) Convene a Parent Board, and ensure that a viable Parent Participation Program is in accordance with 10 U.S.C. 1783 and 1795.

(9) Implement mandated annual and periodic inspections and complete required corrective and follow-up actions within timeframes specified by their respective DoD Component.

(f) Directors of the Defense Agencies and DoD Field Activities. In addition to the responsibilities in paragraph (c) of this section, the Directors of the Defense Agencies and DoD Field Activities shall:

(1) Require that CDPs within his or her jurisdiction are in compliance with this part.

(2) Require that child care fees are used in accordance with DoD Instruction 5305.5 and paragraph (c)(2) of § 79.6.

(3) Require that CDP direct program staff are paid in accordance with Volume 1405 of DoD Instruction 1400.25. Ensure 75 percent of the program's direct program staff total labor hours are paid to direct program staff who are in benefit status.

(4) Require that there are adequate numbers of qualified professional staff to manage the CDPs according to the Service manpower and child space staffing requirements and referenced in paragraphs (c) and (d) of § 79.6 of this part.

(5) Manage child care priority policy, as directed by their respective DoD Component.

(6) Manage hardship waiver policy (financial and operational), as directed by their respective DoD Component.

(7) Review and validate the demand for installation child care capacity and take appropriate action to expand the availability of care, as needed. See paragraph (h) of § 79.6 of this part.

(8) Convene a Parent Board, and require that a viable Parent Participation Program is in accordance with 10 U.S.C. 1783 and 1795.

(9) Implement mandated annual and periodic inspections and complete required corrective and follow-up actions within timeframes specified by their respective DoD Component.

§ 79.6 Procedures.

(a) Priority System. To the extent possible, CDPs shall be offered to the qualifying children of eligible patrons.

(1) Priority 1. The highest priority for full-time care shall be given to qualifying children from birth through 12 years of age of combat related wounded warriors, child development program direct care staff, single or dual active duty Military Service members, single or dual DoD civilian employees paid from APF and NAF, surviving spouses of military members who died from a combat related incident, and those acting in loco parentis on behalf of the aforementioned eligible patrons. With the exception of combat related wounded warriors, ALL eligible parents or caregivers residing with the child are employed outside the home.

(2) Priority 2. The second priority for full-time care shall be given equally to qualifying children from birth through 12 years of age of active duty Military Service members, DoD civilian employees paid from APF and NAF, surviving spouses of military members who died from a combat related incident, and those acting in loco parentis on behalf of the aforementioned eligible patrons, where a non-working spouse, or in the case of a DoD civilian employee with a same-sex domestic partner, is actively seeking employment. The status of actively seeking employment must be verified every 90 days.

(3) Priority 3. The third priority for full-time care shall be given equally to qualifying children from birth through 12 years of age of active duty Military Service members, DoD civilian employees paid from APF and NAF, surviving spouses of military members who died from a combat related incident, and those acting in loco parentis on behalf of the aforementioned eligible patrons, where a non-working spouse, or in the case of a DoD civilian employee with a same-sex domestic partner, is enrolled in an accredited post-secondary institution. The status of post-secondary enrollment must be verified every 90 days.

(4) Space Available. After meeting the needs of parents in priorities 1, 2, and 3, CDPs shall support the need for full-time care for other eligible patrons such as active duty Military Service members with non-working spouses, DoD civilian employees paid from APF and NAF with non-working spouses or same-sex domestic partners, eligible employees of DoD Contractors, Federal employees from non-DoD agencies, and military retirees on a space available basis. In this category, CDPs may also authorize otherwise ineligible patrons in accordance with 10 U.S.C. 1783, 1791 through 1800, 2809, and 2812 to enroll in the CDP to make more efficient use of DoD facilities and resources.

(5) Individual priorities will be determined based on the date of application with the DoD Component. Components may only establish sub-priorities if unique mission related installation requirements are identified by higher headquarters.

(b) Types of Care. The types of care offered for children from birth through 12 years of age include 24/7 care and care provided on a full-day, part-day, short-term or intermittent basis.

(1) Military-Operated CDPs. Military-operated (on and off installation) CDPs generally include:

(i) CDCs. Reference Table 1 of this section of this part for standards of operation for CDCs. CDCs primarily offer care to children from birth to 5 years of age, but may also be used to provide SAC programs.

(ii) SAC Programs. Reference Table 1 of this section for SAC standards of operation. SAC programs primarily offer care to children from 6 to 12 years of age. Care may be offered in CDCs and other installation facilities, such as youth centers and schools.

(iii) FCC. Reference Table 2 of this section for FCC standards of operation. Child care services are available to children from infancy through 12 years of age and are provided in government housing or in state licensed/regulated homes in the community.

(iv) Supplemental Child Care. Services include short-term alternative child care options in approved settings on and off installation.

(v) Part-Day and Hourly Programs. CDP space used for part-day and hourly programs, including programs to provide respite child care, shall not exceed 20 percent of the CDP program's capacity during duty hours.

(2) Military Department, Defense Agency, and DoD Field Activity-Approved Supplemental Child Care Programs. See paragraph (g) of this section.

(c) Administration, Funding and Oversight of Military Operated CDPs. Unless otherwise noted, the requirements in this section apply to all DoD-operated CDPs.

(1) Background Checks. All background checks for individuals who have regular, recurring contact with children and youth in CDPs, including adult family members of FCC providers and any individual over the age of 18 living in a home where child care is provided, and persons who serve as substitute or backup providers, shall be conducted in accordance with 32 CFR part 86.

(2) Funding. CDPs are funded by a combination of APF and NAF.

(i) The amount of APF used to operate CDPs shall be no less than the amount collected through child care fees, except for CDCs that operate under a long-term facility's contract or lease-purchase agreement under 10 U.S.C. 2809 and 2812.

(A) A family's child care fee category is determined based on an initial and subsequent annual verification of TFI. Families pay the child care fee assigned to that TFI category. A family's fees may only be adjusted once per year, with exceptions listed in paragraph (c)(2)(i)(E) of this section. TFI is determined utilizing DD Form 2652.

(B) APF may be used to subsidize child care in military-approved civilian programs in accordance with 10 U.S.C. 1791 through 1800.

(C) DoD Components establishing child care fee assistance programs for their employees must contribute the amounts required to pay subsidies out of agency APFs.

(D) FCC providers are private contractors. Fees are established between the provider and parent, unless such providers receive direct monetary subsidies. When FCC providers receive direct monetary subsidies to reduce the cost of care for the families they service, the installation commander or DoD Component shall determine relevant fees charged by FCC providers.

(E) Fees may be adjusted:

(1) By the installation commander, Defense Agency Director, or DoD Field Activity Director:

(i) On a case-by-case basis for families who are facing financial hardship or unusual circumstances that merit review, in accordance with established DoD Component guidance.

(ii) For parents participating in an approved parent participation program.

(2) By the DoD Components, Defense Agency Director, or DoD Field Activity Director:

(i) To accommodate an optional high market rate when it is necessary to pay higher wages to compete with local labor or at those installations where wages are affected by non-foreign area cost of living allowance (COLA), post differential or locality pay. The optional low market rate may be used in areas where costs for comparable care within the installation catchment area are significantly lower. A request to utilize the high or low market rate options must be submitted to OFP/CY for approval.

(ii) To reflect changes in employment status, relocation, and annual internal reviews that find inaccurate determination or calculation of TFI.

(iii) For CDP employees when CDC programs are facing operational hardships.

(ii) Child Development Program Element APF may be used for:

(A) Salaries of CDP employees.

(B) Food.

(C) Training and education.

(D) Program accreditation fees and support services.

(E) Travel and transportation.

(F) Marketing, to include recruitment, retention, and participation efforts.

(G) Supplies and equipment, to include lending libraries and training materials for use by FCC providers.

(H) Local travel expenses incurred by FCC program staff using their private vehicles to perform government functions.

(I) Direct monetary subsidies to FCC providers.

(iii) To the maximum extent possible, child care fees shall cover the NAF cost of care, and NAF costs not covered by child care fees are to be minimized. Child care fees shall only be used for:

(A) Compensation of direct care CDP employees who are classified as NAF employees, to include training and education, and recruitment and retention initiatives approved by the DoD Component.

(B) Food-related expenses not paid by the USDA or DoD APFs.

(C) Consumable supplies.

(3) Facility Requirements and Construction.

(i) Minimum prescribed construction standards:

(A) For all Marine Corps, Navy, and Air Force CDC facility construction, the Unified Facilities Criteria (UFC) 4-740-14, “Design: Child Development Centers” (see http://www.wbdg.org/ccb/DOD/UFC/ufc_4_740_14.pdf) apply.

(B) For all Army CDC facility construction, the Army Standard for Child Development Centers (see https://mrsi.usace.army.mil/fdt/Army%20Standards/CDC%20age%206wk%20to%205yr%20Army%20Standard.pdf) apply.

(C) When SAC is provided in youth facilities, UFC 4-740-06, “Youth Centers” (see http://www.wbdg.org/ccb/DOD/UFC/ufc_4_740_06.pdf) and Service-specific exceptions to the UFC apply.

(D) State and local construction standards may be used but are not required, except if the CDC facility is located on an area over which the United States has no legislative jurisdiction and then only if State and local standards are more stringent than those in UFC 4-740-14.

(ii) All facilities shall comply with the structural requirements of the National Fire Protection Association 101, “Life Safety Code®” 2012 (available at http://www.nfpa.org/aboutthecodes/AboutTheCodes.asp?DocNum=101&cookie%5Ftest=1)

(4) Oversight.

(i) DoD Certification Inspection. Installation-operated CDPs in which care is provided for 10 or more child care hours per week on a regular basis shall be certified to operate through inspections occurring no fewer than four (4) times a year. Inspections must be unannounced, and parent and staff feedback shall be solicited as part of the inspection process.

(A) Three local inspections and one higher headquarters inspection shall be conducted to verify compliance with this part and DoD Component implementing guidance. Local inspection teams are led by a representative of the installation commander, Defense Agency Director, or Defense Field Activity Director, and a multidisciplinary team, to include human resource, fire, health, and safety proponents, with expertise and authority to verify compliance with this part.

(1) Local inspections include an annual comprehensive health and sanitation inspections, annual comprehensive fire and safety inspections, and a multidisciplinary inspection whose team that includes parent representation. Community representation on the team by appropriate professionals is highly encouraged.

(2) DoD Component inspection teams inspecting CDPs serving children birth through 12 years of age shall include staff possessing:

(i) A baccalaureate degree in child development, early childhood education (ECE), home economics (early childhood emphasis), elementary education, special education, or other degree appropriate to the position filled from an accredited college;

(ii) Knowledge of child/youth development programs; or

(iii) A combination of education and experience that provide knowledge comparable to that normally acquired through the successful completion of a 4-year degree (experience must include at least 3 years of full-time teaching or management experience with children of the appropriate age group).

(3) Parents shall be interviewed as part of the DoD Component inspection. Additional inspections shall be conducted in response to program complaints in accordance with paragraph (b) of § 79.5.

(4) Results of DoD Component inspections shall be provided by the DoD Component to the ODASD(MC&FP) through OFP/CY. CDPs whose inspection results demonstrate compliance with this part shall receive DD Form 2636. Certificates shall be displayed in a prominent location in the CDP.

(5) Inspection results shall be made available to parents. Results from inspections of CDC programs shall be available online.

(6) Periodic, unannounced inspections shall be made by the ODASD(MC&FP) to ensure compliance with the requirements in this part.

(7) In response to each inspection, a corrective action plan with appropriate timelines shall be developed to address any deficiencies identified during inspection.

(ii) Violations. The installation commander, Defense Agency Director or DoD Field Activity Director shall ensure the immediate remedy of any life-threatening violation of this part or other safety, health, and child welfare laws or regulations (discovered at an inspection or otherwise) at a DoD CDP, or he or she will close the facility (or affected parts of the facility).

(A) In the case of a violation that is not life-threatening, the commander of the major command under which the installation concerned operates, or the Director of the Defense Agency or DoD Field Activity concerned, may waive the requirement that the violation be remedied immediately for up to 90 days beginning on the date of discovery of the violation.

(B) If the violation that is not life-threatening is not remedied by the end of that 90-day period, the facility or parts involved will be closed until the violation is remedied.

(C) The Secretary of the Military Department, or Director of the Defense Agency or DoD Field Activity concerned, may request a waiver of the requirements of the preceding sentence to authorize the program to remain open in a case where the violation cannot reasonably be remedied within the 90-day period or in which major facility reconstruction is required. A waiver request must be submitted to OFP/CY for approval.

(iii) Accreditation. Eligible CDP facilities (excluding FCC) shall be accredited by a DoD-approved national accrediting body. CDP oversight is a statutory requirement involving an external nationally recognized accreditation process and internal DoD Certification process.

(A) FCC providers shall be encouraged to seek accreditation from an appropriate national accrediting body.

(B) The percentage of CDP facilities successfully achieving accreditation shall be reflected in the Annual Summary of Operations report referenced in § 79.5.

(iv) Monitoring. There shall be a system in place to monitor FCC homes on a regular basis during all hours of operation. The following information shall be maintained for FCC providers:

(A) Results of family interview.

(B) Background check with suitability determination.

(C) Inspection results.

(D) Insurance.

(E) Training records.

(F) Monitoring visit records.

(5) Parent Board. In accordance with 10 U.S.C. 1783 and 1795, each CDP shall establish a Parent Board to discuss problems and concerns and to provide recommendations for improving CDPs. The Board, with the staff of the program, is responsible for coordinating a parent participation program.

(i) The Board shall be composed only of parents of children enrolled in the installation CDP facilities that are Military Service members, retired Military Service members, or spouses of Military Service members or retired Military Service members, and chaired by such a parent.

(ii) The Board shall meet periodically with the staff of the program and the installation commander, Defense Agency Director, or DoD Field Activity Director to discuss problems and concerns. Board recommendations shall be forwarded to the installation commander, Defense Agency Director, or DoD Field Activity Director for review and disposition. These recommendations are reviewed during the DoD certification inspection.

(iii) The Board shall coordinate a parent participation program with CDP staff to ensure parents are involved in CDP planning and evaluation. In accordance with 10 U.S.C. 1795, parents participating in such program may be eligible for child care fees at a rate lower than the rate that otherwise applies.

(6) Enrollment. To enroll in the CDP, parents shall complete DD Form 2606 or electronic equivalent, DoD Child Development Program Request for Care Record. At the time of enrollment in an installation-based CDP, parents shall provide:

(i) Child(ren)'s health and emergency contact information.

(ii) Documentation that children have been fully immunized.

(A) Children who have not received their age-appropriate immunizations prior to enrollment and do not have a documented religious or medical exemption from routine childhood immunizations shall show evidence of an appointment for immunizations; the immunization series must be initiated within 30 days.

(B) Children in SAC are not required to provide documentation if they are enrolled in a local public school system where proof of currency of vaccination is required.

(iii) Children's records shall be updated annually or as needed for their health, safety, or well-being.

(7) Immunizations. Children enrolling in or currently enrolled in DoD CDPs must provide written documentation of immunizations appropriate for the child's age. Per AR 40-562/BUMEDINST 6230.15A/AFJI 48-110/CG COMDTINST M6230.4F, “Immunizations and Chemoprophylaxis” (see http://www.vaccines.mil/documents/969r40_562.pdf), immunizations recommended by the ACIP are required.

(i) All records shall be updated at least annually and kept on file. Any child not enrolled in a school system where proof of currency of vaccination is required must provide proof of currency.

(ii) Children enrolled in a local public school system and volunteer sports coaches are excluded from this requirement.

(iii) A waiver for an immunization exemption may be granted for medical or religious reasons. Philosophical exemptions are not permitted. The DoD Component must provide guidance on the waiver process.

(A) A statement from the child's health care provider is required if an immunization may not be administered because of a medical condition. The statement must document the reason why the child is exempt.

(B) If an immunization is not administered because of a parent's religious beliefs, the parent must provide a written statement stating that he or she objects to the vaccination based upon religious beliefs.

(C) During a documented outbreak of a contagious disease (as determined by local DoD Medical authorities) that has a vaccine, the child who is attending the program under an immunization waiver for that vaccine, will be excluded from the program for his or her protection and the safety of the other children and staff until the contagious period is over.

(iv) Civilian employees (including specified regular volunteers) and FCC providers shall obtain appropriate immunization against communicable diseases in accordance with recommendations from the ACIP. The requirement for appropriate immunization is a condition of continued employment or active participation in the program or organization.

(A) This requirement is waived if a current immunization, a protective titer, or a medical exemption is approved and documented. A waiver for an immunization exemption may also be granted for religious reasons. Philosophical exemptions are not permitted.

(B) The DoD Component must provide guidance on the waiver process. The DoD Component must approve all waivers and documentation of the waiver kept on file.

(C) During a documented outbreak of a contagious disease, staff with a waiver will be excluded from the program for their protection and the safety of the other children and staff until the contagious period is over.

(8) Child Abuse Prevention and Reporting. In accordance with 10 U.S.C. 1794, CDPs shall minimize the risk for child abuse.

(i) CDPs shall have standard operating procedures for reporting cases of suspected child abuse and neglect, and all employees, employees of DoD contractors, individuals working with CDPs, providers, volunteers and parents shall be informed of child abuse prevention, and identification and reporting requirements. Staff shall be knowledgeable of the child abuse reporting requirements.

(ii) In accordance with 10 U.S.C. 1794, the DoD Child Abuse and Safety Hotline telephone number shall be posted in highly visible areas, including the facility lobby, where parents have easy access to the telephone number. The hotline number shall be published in parent handbooks and other media.

(9) Programming and Standards of Operation. All CDPs shall establish a planned program of developmentally appropriate activities, and adhere to the standards of operation outlined in Tables 1 and 2 of this section.

(d) Personnel. Installation-based CDP personnel and FCC providers shall meet the following requirements:

(1) CDC Directors. CDC directors shall have at a minimum:

(i) A baccalaureate degree in child development, ECE, home economics (early childhood emphasis), elementary education, special education, or other degree appropriate to the position filled from an accredited college; or

(ii) A combination of education and experiences, which provide knowledge comparable to that normally acquired through the successful completion of the 4-year course of study in a child-related field.

(2) SAC Directors. Directors shall have at a minimum:

(i) A baccalaureate degree in a field of child or youth development, such as youth recreation, physical education, elementary education, secondary education, child development, psychology, social work, or other degree appropriate to the position filled from an accredited college; or

(ii) A combination of education and experiences, which provide knowledge comparable to that normally acquired through the successful completion of the 4-year course of study in a child development or youth-related field.

(3) Training and Curriculum Specialists. Each program within the CDP shall employ at least one training and curriculum specialist. Training and curriculum specialists shall have at a minimum:

(i) A baccalaureate degree with a major course of study directly related to child or youth development, ECE or an equivalent field of study from an accredited college, or a combination of education and experiences, which provide knowledge comparable to that normally acquired through the successful completion of the 4-year course of study in the field of child or youth development or ECE.

(ii) Knowledge of early childhood or youth education principles, concepts, and techniques to develop, interpret, monitor, and evaluate the execution of curriculum and age-appropriate activities.

(iii) Knowledge of adult learning techniques and strategies and experience training adult learners.

(iv) Ability to support DoD certification, accreditation, and staff credentialing (Child Development Associate (CDA), Associate of Arts (AA) Degree) by ensuring that required training is administered and successfully accomplished to meet statutory and program requirements.

(4) FCC Administrators. FCC administrators shall have at a minimum:

(i) A baccalaureate degree with a major course of study directly related to child or youth development, family studies, or an equivalent field of study from an accredited university; or

(ii) A combination of education and experiences, which provide knowledge comparable to that normally acquired through the successful completion of the 4-year course of study in the field of child or youth development or family studies.

(5) CDP Direct Care Personnel, Support Staff, and FCC Providers. CDP direct care personnel and support staff, as a condition of employment, and FCC providers shall, as a condition of participation:

(i) Be at least 18 years of age.

(ii) Hold a high school diploma or equivalent.

(iii) Read, speak, and write English.

(iv) Successfully pass a pre-employment physical, maintain current immunizations and be physically and behaviorally capable of performing the duties of the job.

(e) Training. Each CDP must have a DoD Component-approved training program. Satisfactory completion of training is a condition of employment for staff in a center-based program and for providers offering care in FCC homes.

(1) CDP Management Personnel. CDP management personnel, including CDP directors (CDC directors, FCC administrators, and SAC directors), shall receive annual training, which includes the following topics:

(i) Child abuse prevention, identification, and reporting.

(ii) Program administration, including APF and NAF financial management, funding metrics, and fiscal accountability.

(iii) Staff development and personnel management.

(iv) Prevention of illness and injury and promotion of health.

(v) Emergency procedures and preparedness.

(vi) Working with children with special needs.

(vii) Developmentally appropriate practices.

(2) Training and Curriculum Specialists. Training and curriculum specialists shall receive annual training, to include the following topics:

(i) Child abuse prevention, identification, and reporting.

(ii) Developmentally appropriate practices.

(iii) Principles of adult learning.

(iv) Prevention of illness and injury and promotion of health.

(v) Emergency procedures.

(vi) Working with children with special needs.

(3) CDP Direct Care Personnel and FCC Providers.

(i) Training requirements for direct care personnel (excluding FCC providers) shall be linked to the DoD CDP Employee Wage Plan implemented in response to 10 U.S.C. 1783, and 1791 through 1800 to include completion of the DoD-approved competency based training modules within DoD Component specified time frames.

(ii) All newly hired CDP direct care personnel and FCC providers shall complete 40 hours of orientation. Orientation shall begin prior to working with children, with the full 40 hours completed within the first 90 days of employment. Orientation completion shall be documented for each direct care personnel or FCC provider. Orientation includes:

(A) Working with children of different ages, including developmentally appropriate activities and environmental observations.

(B) Age-appropriate guidance and discipline techniques.

(C) Applicable regulations, policies, and procedures.

(D) Child safety and fire prevention.

(E) Child abuse prevention, identification, and reporting.

(F) Parent and family relations.

(G) Health and sanitation procedures, including blood-borne pathogens, occupational health hazards for direct care personnel, and recognizing symptoms of illness.

(H) Emergency health and safety procedures, including pediatric cardiopulmonary resuscitation (CPR) and first aid.

(I) Safe infant sleep practices and Sudden Infant Death Syndrome (SIDS) prevention.

(J) Nutrition, obesity prevention, and meal service.

(K) Working with children with special needs.

(L) Accountability and child supervision training.

(M) For FCC providers only, infant and child (pediatric) CPR and first aid must be completed prior to accepting children for care. Training shall be updated as necessary to maintain current certifications.

(N) For FCC providers only, training in business operations.

(iii) CDP direct care personnel and FCC providers shall complete additional training specified by the DoD Component within 90 days of beginning work. The training shall include, at a minimum, in-depth training on the subjects covered in the orientation as well as infant and child (pediatric) CPR and first aid, which shall be updated as necessary to maintain current certifications.

(iv) CDP direct care personnel and FCC providers shall complete a minimum of 24 hours per year of ongoing training by the DoD Component approved training program. Training shall include child abuse prevention, identification and reporting, safe infant sleep practices and SIDS prevention, working with children with special needs, and if required, administering medication.

(v) Substitute FCC providers must complete a basic orientation and background checks prior to providing care. Such orientation includes child abuse prevention, identification and reporting, working with children with special needs, safety procedures and pediatric CPR and first aid, and SIDS prevention. The FCC provider's spouse may serve as a backup provider on a limited basis, as designated by the DoD Component and must complete the required substitute FCC provider training.

(4) CDP Support Staff. CDP support staff shall participate in annual training related to the latest techniques and procedures in child care, including topics on child abuse prevention, identification and reporting, and other training related to their position.

(f) Volunteers. All volunteers shall be screened, trained, and supervised in accordance with DoD Instruction 1402.5 and 32 CFR part 86; and DoD Instruction 1100.21, “Voluntary Services in the Department of Defense” (see http://www.dtic.mil/whs/directives/corres/pdf/110021p.pdf) and DoD Component implementing guidance, as appropriate to their role. Volunteers may not be alone with children and are not counted in the staff ratio. All regularly scheduled volunteers shall be trained in:

(1) Program orientation.

(2) Age-appropriate learning activities.

(3) Child abuse identification, reporting and prevention.

(4) Age-appropriate guidance and discipline.

(5) Working with children with special needs.

(6) Child health and safety.

(7) Safe infant sleep practices and SIDS prevention.

(8) Emergency procedures.

(9) Applicable regulations and installation policy.

(10) Role of the volunteer in the CDP.

(g) Supplemental Child Care. On-site group care services are designed to provide occasional, intermittent care to children on an hourly basis, including respite child care.

(1) When on-site group care is provided in an installation CDP facility by CDP staff members, the requirements of this part apply.

(2) When on-site group care is provided in a non-CDP facility by CDP personnel and parents are not on site, the requirements of this part apply.

(3) When on-site group care is provided in a non-CDP facility by CDP personnel and parents remain on site, the facility is not required to meet the requirements of this part.

(4) When on-site group care is provided in an alternative facility by volunteers or parents, and the parent or guardian remain on site, the requirements of this part do not apply.

(h) Administration and Oversight of Community-Based Care Providers.

(1) Types of Care. Efforts shall be made to expand the availability of these programs through referrals to comparable programs off of the installation through participation in consortiums with other Federal and non-governmental entities.

(i) Efforts shall be made to ensure quality, affordable child care options exist for all eligible patrons, including those who are geographically dispersed active duty military and their families. Community-based child care options are designed to supplement, not replace, child care programs on the installation.

(ii) Care may be delivered through military-approved community-based CDPs, utilizing a myriad of delivery systems, including existing child care facilities, schools, recreation and after-school and summer programs, and home-based care programs.

(iii) Programs that support the needs of eligible deployed families in military-approved community-based child care programs where care is needed for a short-term basis during the deployment phase must meet the State licensing regulations and requirements and be inspected by an outside agency once a year. All other types of care must meet the intent of this part.

(iv) Programs shall meet State licensing standards for background checks.

(v) Military-approved community-based child care programs will be encouraged to participate in an evaluation process utilizing the ERIS in this section, a detailed assessment tool developed by the DoD to evaluate facility-based child care providers.

(2) Subsidies.

(i) The DoD Components may subsidize a portion of the cost of child care incurred by eligible active duty and DoD civilian employees.

(ii) Subsidies resulting from the child care provided to children of active duty military members are excluded from gross income pursuant to 26 U.S.C. 134.

(iii) Subsidies provided to DoD civilian employees may qualify for exclusion from gross income, provided the specific program used qualifies under 26 U.S.C. 129(d) and the employee receives the subsidy for an eligible purpose on behalf of an eligible child as described in 26 U.S.C. 21(a) and 21(b). Subsidies in excess of the excludable amounts will be treated as gross income under 26 U.S.C. 61. Employees are advised to consult with a qualified tax expert with questions or concerns related to taxability of child care subsidies.

(iv) Child care programs and providers who offer their services under this provision must comply with the standards outlined in this part and must be approved by the plan administrator or designee prior to issuance of subsidy payments by a DoD Component.

(v) The DoD Components are responsible for budgeting for child care subsidies and are not to establish a special fund out of which child care subsidies are paid, nor will eligible users of Military Child Development Programs be required to make a contribution as a condition of receiving a child care subsidy.

(vi) The DoD Components have the discretion to amend or terminate their participation in a child care subsidy program under this plan at any time. The benefits in this section are not guaranteed and may be reduced by plan amendment.

(vii) The OFP/CY will designate a TPA to administer the Military Department, Defense Agency, and DoD Field Activity civilian child care subsidy program for all DoD Components. Each civilian sponsor must register with the TPA contracted by the Defense Department.

(A) The TPA shall annually document family and provider eligibility, TFI, child data, and other information required to comply with reporting requirements, in accordance with 26 U.S.C. 21(a), 21(b), 61, 129, and 134.

(B) The TPA shall provide authorization and payment of child care subsidies to the provider. All subsidy payments shall be made to the child care provider.

(C) The TPA shall comply with fee assistance guidelines established by the individual DoD Components.

(i) Augmented Program Support. When possible, CDPs should utilize personnel, such as behavioral health consultants and school liaison officers to assist the program staff and parents with children's social-emotional development and behavior. These personnel shall assist staff, parents, and children in developing skills to respond to challenging behaviors and reduce stress for staff and participating children.

(j) CDC and SAC Standards of Operation, FCC Standards of Operation, and the ERIS.

(1) Table 1 outlines the minimum operational standards required for installation-based CDCs and SACs to receive the DoD Certificate to Operate. These standards implement the policy requirements of paragraphs (a), (c)-(f), and (i) of this section. When a SAC program operates within a CDC, SAC standards of operation shall be used for the SAC portion of the program.

(2) Table 2 outlines the minimum operational standards required for installation-based and affiliated FCC providers to receive the DoD Certificate to Operate. These standards implement the policy requirements outlined in the body of this part.

(3) Table 3 outlines the operational standards for community-based child care facilities. These standards, in addition to the state licensing requirements, may be used to determine eligibility of child care subsidies under conditions designated by the DoD Components. Programs eligible to receive child care subsidies when the Service member is deployed must meet the state licensing requirements and be annually inspected.

Table 1—CDC and School-Age Programs Standards of Operations
A. Administrative
Both CDC and SAC
The program has implemented the fee policy in accordance with current DoD and DoD Component guidance. If appropriate, the program has an approved waiver to utilize the high cost fee option.
75 percent of the program's total labor hours are paid to direct program staff who are in benefit status.
Unannounced inspections are conducted by program staff following complaints.
B. Facility
Facility: Both CDC and SAC
The DoD Certificate to Operate is displayed in a prominent location.
Newly constructed CDP facilities follow the UFC or Service guidance for program capacity and capability.
The facility food service area supports the sanitary preparation and service of healthy foods.
All playgrounds, playground surfaces, and equipment meet American Society for Testing and Materials and Consumer Product Safety Commission (CPSC) guidelines.
There is a balance of sun and shade on the playground and a variety of surfaces, such as resilient surfaces, and natural elements. CDC playgrounds include equipment for riding, climbing, balancing, and swinging.
The program provides opportunities for active play every day, indoors and outdoors. Children have ample opportunity to do vigorous activities such as running, climbing, dancing, skipping, and jumping.
Programs use gardens to educate children about healthy eating.
The square footage of useable space for each child in each activity room meets the requirements of the UFC or Service-specific guidelines.
Sound absorbing materials, such as ceiling tiles and rugs are used to minimize noise levels.
Areas used by children have adequate lighting for safety, evacuation, and security measures, are ventilated and kept at a comfortable temperature.
There is adequate and convenient storage space for equipment and materials.
Individual space is provided for each child's belongings.
Supervised private areas where children can play or work alone or with a friend are available indoors and outdoors.
Bathrooms, drinking water, and hand-washing facilities are easily accessible to children.
Clean, sanitary drinking water is readily available at all times.
The facility includes a place for adults to take a break away from children, an adult bathroom, a secure place for staff to store their personal belongings, and an administrative area for planning or preparing materials that is separated from the children's areas.
The facility includes soft elements that help create a home-like environment.
Facility: CDC ONLY
The square footage of activity space per child meets the requirements of the UFC or Service specifications for facilities built after 2002. A minimum of 50 square feet per child of activity space is provided for infants in facilities built prior to 2002.
If more than one care group occupies a single room, each group has its own defined physical space and primary interest centers.
Outdoor play areas directly adjoin CDCs. Playgrounds for alternative program options must be accessible via a route free from hazards and are located within 1/8 mile from the facility.
Playgrounds are enclosed by a fence and meet the requirements of the UFC.
The square footage of playground space per child meets the requirements of the UFC or Service specific guidelines. The playground area is capable of supporting 30 percent of the total capacity of the CDC in a center of 100 or more children, and all the children in centers with a capacity of fewer than 100 children.
The facility has a designated place set aside for breastfeeding mothers who want to come during work to breastfeed, as well as a private area with an outlet (not a bathroom) for mothers to pump their breast milk.
Facility: SAC ONLY
There are separate male and female bathrooms for children as well as separate multi-unit restrooms for staff and visitors or a system to ensure that adults and teens do not use the bathrooms at the same time as children in SAC.
C. Health and Sanitation
Health and Sanitation: Both CDC and SAC
A comprehensive health and sanitation inspection has been conducted within the last 12 months, corrective actions have been completed per specified timelines, and the inspection report is available for review.
The program shall require that all children enrolling in CDPs provide written documentation of immunizations appropriate for the child's age in accordance with Army Standard for Child Development Center. Children enrolled in the SAC program are not required to provide documentation if they are enrolled in a local public school system.
Staff employed by the CDP and regular volunteers shall be current for all immunizations recommended for adults by the ACIP of the Centers for Disease Control and Prevention. All must provide written documentation of immunization.
There is a policy in place that addresses the daily informal screening for illness based on criteria established by the DoD Component. This policy also addresses admission back into the CDP after an illness.
There is a policy in place that addresses food or other allergies, special accommodations, or potentially life-threatening conditions.
Individual medical problems and accidents are recorded and reported to management staff and families, and a written record is kept of such incidents.
Only physician-prescribed medications are administered; medications are only given with the written approval of the child's parents; and medications given are documented.
Providers have documented parental permission to apply basic topical care items such as sunscreen, insect repellant, and lotion.
A plan exists for dealing with medical emergencies that include written parental consent forms, and transportation arrangements approved by the DoD Component.
Policies and procedures are followed for administering and storing medication. Designated staff are trained to administer medications, and the training is updated annually or as required by state laws.
The facility is cleaned daily, and as needed throughout the day. Food preparation areas, bathrooms, diapering areas, hand-washing facilities, and drinking fountains are sanitary.
A sink with running water at a comfortable temperature of no more than 110 degrees temperature is very close to bathrooms and diapering areas.
Staff and children wash hands before and after eating, after toileting and diapering, after handling animals, after entering the facility from outdoors, before water play, after wiping their nose, and after any other activity when the hands become contaminated. Signs are posted reminding staff and children of proper hand-washing procedures.
Staff and volunteers follow universal precautions to prevent transmission of blood-borne diseases and the program has a blood-borne pathogen procedure, as required by the Occupational Safety and Health Administration (OSHA).
The program requires parents to provide proper attire for active play indoors and outdoors.
At least one staff member, who has certification in first aid treatment, including CPR for infants and children and emergency management of choking, is always present. Current certificates are kept on file.
Health and Sanitation: CDC ONLY
Infant equipment is washed and disinfected at least daily. Toys that are mouthed are removed immediately after mouthing and are washed and sanitized prior to being used by another child.
Individual bedding is washed at least once a week and used by only one child between washings. Individual cribs, cots, and mats are washed if soiled.
Diapering procedures are in accordance with national recommendations and are posted in diapering areas.
Sinks used for diapering are not co-located with food service areas or the sink used for dishwashing.
D. Fire and Safety
Fire and Safety: Both CDC and SAC
Comprehensive fire and safety inspections have been completed within the last 12 months, corrective actions have been completed per specified timelines, and the inspection reports are available for review.
A safety walk-through of all play areas is conducted daily. Safety concerns are identified, documented, and corrected immediately or put off limits to children until they can be corrected.
The building, playground, and all equipment are maintained in safe, clean condition, are in good repair, and there are no observable safety hazards in the indoor and outdoor program space.
Stairways and ramps are well lighted and equipped with handrails, where appropriate.
Fire extinguishers, smoke detectors, and carbon monoxide detectors, where required, are in working order, and documentation shows status is checked monthly.
Adequate first aid supplies are readily available and maintained. First aid supplies are available during field trips and outings.
Toys and materials do not present a choking hazard for children under age 3 years.
Chemicals and potentially dangerous products, such as medicine or cleaning supplies, are stored in original, labeled containers in locked cabinets inaccessible to children. Diluted bleach solution must be accessible to staff in an unlocked location, but inaccessible to children.
There is a written plan for reporting and managing emergencies, including terrorist attacks, severe storm warnings, medical and pandemic emergencies, or a lost or missing child, which includes shelter in place and evacuation procedures. Staff and volunteers understand the plan.
Evacuation drills are conducted monthly at different times of the day or evening when children are in care. The drills are documented.
Emergency telephone numbers including police, fire, rescue, and poison control services are posted by telephones and are available at all times.
Staff and regular volunteers are familiar with primary and secondary evacuation routes and practice evacuation procedures monthly with children.
A system is in place to keep unauthorized people from taking children from the program.
Smoking and use of tobacco is not permitted in the facility or in the sight or presence of children.
Fire and Safety: CDC ONLY
Cribs meet the current CPSC guidelines.
CPSC crib safety guidelines are followed: infants are placed on their backs for sleeping; soft cushions, such as pillows, comforters, thick blankets, quilts, or bumper pads are not used in cribs.
E. Parent Involvement/Participation
Parent Involvement/Participation: Both CDC and SAC
Parents have access to their children at all times, are helped to feel welcome and comfortable, and are treated with respect.
Written information is available to families, including operating policies and procedures, program philosophy, and a parent participation plan.
Programs are encouraged to include the culture and language of the families they serve. Families are encouraged to share their heritage and culture.
Parents are offered a program orientation as a part of the child enrollment process.
Parents are informed about the program and curriculum and about policy or regulatory changes and other critical issues that could potentially affect the program, through newsletters, bulletin boards, technology, and other appropriate means.
Families are encouraged to participate in the planning and evaluation of the CDC and SAC programs with regards to their child's care and development. They are encouraged to be involved in the program in various ways, taking into consideration working parents and those with little spare time.
There is a parent board that meets on a scheduled basis through in-person or virtual meetings. The board meets periodically to provide opportunities for families to have input regarding policies, procedures, and plans for meeting children's needs.
Staff work in collaborative partnerships with families, establishing and maintaining daily or ongoing two-way communication with children's parents to build trust, share changes in a child's physical or emotional state regularly, facilitate smooth transitions for children, and ensure that children's learning and developmental needs are met.
Policies ensure that staff and parents have an effective way of negotiating difficulties and differences that arise in their interactions.
Programs inform families on how to increase physical activity, improve nutrition, and reduce screen time (TV, video games, computers, etc.).
The program provides information to parents to ensure that each child has routine health assessment by the child's primary care provider, according to standards of the AAP, to include evaluation for nutrition-related medical problems.
Parent Involvement/Participation: CDC ONLY
Conferences are held at least once per year and at other times, as needed, to discuss children's progress, accomplishments, and difficulties at home and at the program.
F. Learning Activities and Interaction with Children
Both CDC and SAC
Learning activities reflect the program's written statement of its philosophy and goals for children. This statement is available to all staff and families.
The program is designed to reasonably accommodate and be inclusive of all children, including those with identified disabilities as well as special learning, medical, and developmental needs.
Programs have established a planned program of developmentally appropriate activities that recognizes the individual differences of children and provides an environment that encourages children's self-confidence, self-help, life skills, curiosity, creativity, and self-discipline.
Staff include age-appropriate nutrition education activities in the curriculum.
The daily schedule provides a balance of activities in consideration of the child's daily routine and experience.
Staff are engaged and interact frequently with children, speaking in a friendly, positive, and courteous manner, respectful of gender, race, religion, family background, special needs, and culture. The physical environment supports these interactions.
Staff conduct smooth and unregimented transitions between activities and are flexible in changing planned or routine activities, as appropriate. Infants and toddlers are not expected to function in large group activities.
Staff use a variety of teaching strategies to enhance children's learning and development throughout the day.
Staff addresses bullying and supports positive behavior by modeling appropriate behavior, responding consistently to issues, and encouraging children to resolve their own conflicts, when possible and appropriate.
The outdoor environment meets the needs of children, allows them to be independent and creative, and have access to a variety of age-appropriate outdoor equipment and games. Staff plan and participate in children's active play.
Program materials are in good condition, sufficient for the number of children in the program, developmentally appropriate for the age of the children, and appropriate to the activities offered.
Screen time and the use of passive media is limited and developmentally appropriate. Media viewing and computer use is not permitted for children younger than 2 years.
CDC Only
There is a DoD Component-approved curriculum that supports school readiness. It is based on knowledge of child and youth development and learning, and assessment of individual needs and interests.
Developmentally appropriate activities emphasize concrete experiential learning and promote development in six developmental domains: social, physical, language and literacy, cognitive and intellectual, emotional, and cultural.
Individual observations of children's development and learning are written, compiled, assessed, and are used as a basis for planning appropriate learning activities.
Staff plan with families to make toileting, feeding, and the development of other self-regulation skills a positive experience for children.
SAC Only
Developmentally appropriate activities encourage physical fitness; positive self-esteem; intellectual, social, and physical achievement; leadership skills and initiative; lifelong recreation skill; positive use of leisure time; moral development and community leadership; self-reliance and independence; and respect for diversity.
SAC daily schedules are flexible, provide stability without being rigid, allow youth to meet their physical needs (e.g., water, food, restrooms) in a relaxed way, allow children to move smoothly from one activity to another (usually at their own pace), and facilitate smooth transitions when it is necessary for children to move as a group.
Appropriate protected internet access and programs that teach technology are available.
G. Nutrition and Food Service
Both CDC and SAC
Meals and snacks are a pleasant, social learning experience for children.
The DoD Components will establish policies that are consistent with USDA guidelines for meals provided by parents. Under limited circumstances when meals are provided by parents, food storage and handling procedures are approved by local health and sanitation authorities.
Unless documented circumstances approved by the DoD Component prevent enrollment, all programs must enroll in the USDA CACFP (United States Department of Agriculture Child and Adult Care Food Program).
Dietary modifications are made on the basis of recommendations by the child's primary medical care provider and are documented. Documentation is available for religious and medical dietary substitutions. Menus contain some vegetarian meals.
The program provides or posts menus showing all foods to be served during that month. Core and cyclical menus are approved by a nutritionist or registered dietician. Foods typical of the child's culture and religious preferences, as well as a variety of healthful foods that may not be familiar to the child, are included.
The program provides healthy meals and snacks that include restrictions on the provision of juice and beverages with added sweeteners and no fried, high-fat, or highly salted foods.
Meals and snacks are conducted using family-style dining. In SAC programs, snacks may be served buffet style.
CDC Only
The program encourages, provides arrangements for, and supports breastfeeding.
There is an accountability system in place for bottles, including bottles for breast milk. Bottle-feeding is done in such a way as to minimize disease and promote interaction. Infants are held for bottle-feeding, bottles are never propped, never heated in a crock pot or microwave, and infants are never put to sleep with a bottle.
One adult should not feed more than one infant for bottle feeding, two children in high chairs, or three children who need assistance with feeding at the same time.
H. Supervision of Children
Both CDC and SAC
The following staffing requirements are met at all times, except during nap time (for CDC):
a. For infants from birth to 12 months, there are never more than four children per staff member.
b. For pre-toddlers 13 months to 24 months, there are never more than five children per staff member.
c. For toddlers, 25 months to 36 months, there are never more than seven children per staff member.
d. For children 37 months through 5 years, there are never more than twelve children per staff member.
e. For children 6 years through 12 years, there are never more than fifteen children per staff member.
During rest time, the staff-to-child ratios for children over 24 months of age may increase to twice the non-napping staff-to-child ratio. Sufficient staff are required to remain in the building during rest time to meet the non-napping ratios and be available to assist with emergencies.
The following maximum group sizes are followed at all times:
a. For infants birth to 12 months, there are never more than eight children per group.
b. For pre-toddlers 13 months to 24 months, there are never more than ten children per group.
c. For toddlers, 25 to 36 months, there are never more than fourteen children per group.
d. For children thirty-seven months through five years, there are never more than twenty-four children per group.
e. For SAC, there are never more than thirty children per group.
In multi-age groupings, the Service may follow the ratio per age group. For example, four infants and five pre-toddlers equal a group of nine with two direct care personnel, or seven toddlers and twelve preschoolers equal a group of nineteen with two direct care personnel.
Volunteers or persons under 18 years of age may not be counted in determining compliance with staff-to-child ratios and are not allowed to work alone with children.
The program has an accountability system in place. Each staff member has primary responsibility and accountability for a group of children. There is specific accountability for each child by one staff member. Systems are in place for accounting for children's whereabouts, especially during periods of transition and emergencies.
Children are released only to their parents or guardian. Children may be released to a designee when signed permission is given by the parent or guardian.
Families are notified about procedures and policies for field trips. Families are notified of all activities outside the center.
Children are under adult supervision at all times. Staff are not permitted to use personal electronic devices (including, but not limited to cell phones, iPods, smart phones, etc.) when supervising children.
CDC Only
At least two staff members must be present with each group of children at all times. When one staff person is alone with a single ratio of children, the program director or designee frequently monitors the room through closed circuit television or visual access panels to ensure oversight by more than one adult. In this case, the staff member must have an initiated National Agency Check Investigation (NACI) and the program director or designee must have a completed NACI.
Infants and toddlers spend the majority of the time interacting with staff who have primary responsibility for them each day.
SAC Only
At least two paid staff members shall be present whenever children are in the facility.
Adult volunteers may supplement paid staff during field trips and other activities away from the facility. Only paid staff are counted in the ratio.
Signed permission is given by the parent allowing the child to self-release for a specific organized activity. Self-release procedures are consistent with the installation home alone policy or self-care policy.
I. Child Abuse Prevention and Reporting
Both CDC and SAC
A NACI to include a name-based criminal history record check (State and Federal) and fingerprint check has been initiated on all staff. Background checks are tracked to ensure completion in a timely manner.
All individuals in a CDP who have contact with children have completed a DD Form X656 “Basic Criminal History and Statement of Admission”
Updates to the background checks are completed every five years.
Newly hired staff without a completed background check are readily identifiable and work within line of sight of a staff member with a completed check.
Hiring practices include careful checking of references of all potential employees and volunteers.
The program has a written guidance, discipline, and touch policy that is available to staff and families. Staff do not use corporal punishment or other negative discipline methods that hurt, humiliate, or frighten children.
The program has a child abuse and neglect policy that includes reporting requirements for staff as well as procedures to be followed should a staff member be accused of abuse or neglect. This information is included in employee handbooks. All staff are knowledgeable of the policy.
The DoD Child Abuse and Safety Hotline telephone number is displayed in a highly visible area where parents can see it. The telephone number is published in parent handbooks and other brochures.
The facility is designed in accordance with the Unified Facilities Criteria (UFC) 4-740-14, “Design: Child Development Centers,” to help minimize the risk of child abuse:
a. Access to children by those not employed by the program is restricted.
b. Areas to which a child or children can be taken out of view of others are limited.
c. All exit doors that do not open onto a fenced area have operating alarms, except the main entrance to the facility and the kitchen entrance.
d. Evening or weekend care is provided in rooms located near the front entryway to facilitate additional supervision by the front desk staff and parents.
e. In the CDC:
1) Children can be observed at all times by parents and supervisors.
2) There is visual access into and throughout activity rooms used for care, including nap time. Closed-circuit television, vision panels, and convex mirrors are used as necessary to facilitate visual access.
3) Diapering areas are visible.
All persons other than employees and family members bringing in or picking up children sign in and out at the front desk or with appropriate personnel. Visitors to the CDP shall sign in and out of the facility and wear a visitors badge at all times while they are in the facility or on playgrounds.
If transportation is provided for children by the program, vehicles are equipped with age-appropriate restraint devices in accordance with State and Federal requirements. The program maintains documentation that vehicles used in transporting children are appropriately licensed, inspected, and maintained. A current copy of the appropriate driver's license and Department of Motor Vehicles driving record is on file for staff members who transport children.
In SAC programs, a procedure for accountability when a child fails to show for the program is in place and followed.

Table 2—FCC Standards of Operation
A. Administrative
The installation regulates FCC in accordance with DoD Component requirements, ensuring care is not permitted unless subject to inspection and approval.
Processes are in place to support recruitment and retention of FCC providers.
Unannounced inspections are conducted by program staff following complaints.
B. Home
Where applicable, the DoD Component has a process to register and certify homes located off the installation or in privatized government housing.
The Certificate to Operate, issued by the DoD Component or designee, is displayed in a prominent location.
Providers can demonstrate proof of current liability insurance.
There is a signed contract between each family and provider. Parents are informed of changes in the provider's household composition.
Children are cared for by the provider or an approved substitute. Parents and the FCC administrator are informed when a substitute provider will be caring for their children. Civilian members of the provider's household providing care as a substitute must be approved and trained. Active duty Military Service members may serve as substitute providers only under circumstances approved by the DoD component.
There is adequate space indoors and outdoors in the home for the number of children in care to play, rest, and eat.
C. Health and Sanitation
On installations, comprehensive fire, safety, and sanitation inspections have been completed within the last 12 months, and the inspection reports are available for review.
The provider notifies parents and FCC of medical emergencies, communicable diseases or illness of the children, the provider, or the provider's family member(s). Health consultants will be informed based on installation policy.
Children are informally screened daily for illness based on criteria established by the DoD Component. Children are readmitted after illness only when their presence no longer endangers the health of other children.
Only physician-prescribed medications are administered; medications are only given with the written approval of the child's parents; and medications given are documented.
Providers have documented parental permission to apply basic topical care items such as sunscreen, insect repellant, and lotion.
Procedures for diapering, hand washing, and toileting are followed in accordance with national recommendations.
Providers follow universal precautions to prevent transmission of blood-borne diseases, and the provider has a blood-borne pathogen procedure, as required by OSHA.
Providers and children wash hands before and after eating, after toileting and diapering, after handling animals, after entering the home from outdoors, before water play, after wiping their nose, and after any other activity when the hands become contaminated. Signs are posted reminding providers and children of proper hand-washing procedures.
Homes are maintained in a sanitary manner.
Individual bedding is washed at least once a week and used by only one child between washings. Individual cribs, cots, and mats are washed if soiled.
Infant equipment is washed and disinfected at least daily. Toys that are mouthed are removed immediately after mouthing and are washed and sanitized prior to being used by another child.
All windows used for ventilation are properly screened.
Providers do not consume alcohol while children are in care.
Smoking is not permitted in the home or outdoor area while children are in care.
D. Fire and Safety
There are policies in place to ensure the home operates to protect children against the risk of fire and safety hazards.
There is a policy to keep children protected from hazards stemming from poisoning, toxic materials, electrical shock, standing water, unsafe playground equipment, and strangulation.
There is a written plan for reporting and managing emergencies, including terrorist attacks, severe storm warnings, medical and pandemic emergencies, or a lost or missing child, which includes shelter in place and evacuation procedures. Providers and volunteers understand the plan.
First aid supplies are readily available for emergencies and maintained.
Evacuation drills are conducted monthly at different times of the day or evening when children are in care. The drills are documented.
There is a working landline or cellular phone within the home. Emergency telephone numbers including police, fire, rescue, and poison control services, and instructions are accessible or kept with the telephone(s).
Providers use safety gates to prevent children from falls. Door locks that can entrap children inside a bathroom or bedroom may be opened from the outside.
If there are firearms in the home, the ammunition must be removed from the firearm. Firearms and ammunition are stored separately in locked cabinets that are inaccessible to children.
Young infants are placed on their backs for sleeping to lower the risk of SIDS. Soft cushions, pillows, thick blankets, and comforters are not used in cribs.
Providers shall not permit children to sleep in family beds unless a separate bed is designated for the child and clean linens are provided.
Cribs meet CPSC guidelines. The sides of infants' cribs shall be in a locked position when cribs are occupied and do not present a strangulation or entrapment hazard.
Providers inform parents if they will be taking children from the home while they are in care.
If transportation is provided for children by the provider, age-appropriate restraint devices are used, and appropriate safety precautions are taken.
A current copy of the driver's license and proof of insurance is on file for providers who transport children.
E. Parent Involvement/Participation
Parents are given access to the home at all times when their children are present.
Parents are provided with a copy of policies governing FCC.
The provider communicates regularly with parents and recognizes them as partners in the care of children, and there is a prominent place to display information for parents.
Parents are provided with information about the importance of routine health supervision by the child's primary care provider, according to standards of the AAP, to include evaluation for nutrition-related medical problems.
F. Learning Activities and Interaction with Children
Activities and experiences are provided daily that enhance children's physical, social, emotional, and cognitive development.
Activities include age-appropriate nutrition education.
There are enough toys and materials, home-made or purchased, to engage all the children in developmentally appropriate ways.
Toys, materials, and equipment are in good repair and are arranged so children are able to select and put toys and materials away with little or no assistance.
A variety of daily activities is planned for indoors and outdoors. There is a balance between child-initiated and adult-directed activities. A daily schedule of activities is posted for parents to see.
The provider plans and participates in children's active play.
The provider interacts frequently with the children and shows them affection and respect. The provider speaks to children in a friendly, courteous manner.
Children's routines are handled in a relaxed and individualized manner that promotes respect and opportunities to develop self-esteem, self-discipline, and learning by doing.
Screen time (e.g., non-active video games) and the use of passive media, (e.g., television, audio tapes), are limited and developmentally appropriate. Media viewing and computer use are not permitted for children younger than 2 years.
The provider observes and evaluates each child's growth and development for program planning.
G. Nutrition and Meal Service
Unless documented circumstances prevent enrollment, providers are offered the opportunity to enroll in the USDA CACFP and all meals and snacks are prepared, handled, transported, and served according to USDA CACFP guidelines found in 7 CFR part 226.
Providers develop written menus showing all foods to be served during that month, and the menus are available to parents and guardians. Menus are posted for meals and snacks.
Dietary modifications are made on the basis of recommendations by the child's primary care provider and are documented. Documentation is available for religious and medical dietary substitutions. Menus contain some vegetarian meals.
Meals and snacks include restrictions on the provision of juice and beverages with added sweeteners and limited high-fat and salted foods.
Food is prepared, served and stored in a sanitary manner. If meals are provided by parents, food storage and handling procedures are approved by local health and sanitation authorities.
All children present are served meals or snacks. Meals and snacks for toddlers, preschool, and school-age children use family-style dining.
Bottle-feeding is done in such a way as to minimize disease and promote interaction. Infants are held for bottle-feeding. Bottles are never propped, never heated in a crock pot or microwave, and infants are never put to sleep with a bottle.
There is an accountability system in place for bottles, including bottles for breast milk.
The provider encourages, provides arrangements for, and supports breastfeeding. There is an accountability system in place for bottles.
H. Supervision of Children
The maximum group size in a home is six children per provider, including the provider's own children under the age of eight.
a. When all children are under the age of two, the maximum group size at any one time is three.
b. In mixed-age groups, the number of children under two years of age is limited to two children.
c. When all children are school-age, the maximum group size is eight.
Parents sign children in and out of the home on a daily basis. Children are only released to persons that parents have authorized in writing. Children may sign themselves out of the home consistent with the installation home alone policy or self-care policy and parental consent.
Providers supervise all children in care both inside and outdoors. School-age children may be outside without direct supervision as long as they are within sight or sound of the provider.
I. Child Abuse Prevention and Reporting
Providers, substitute providers, and individuals age 18 and older living in the home, must complete a background check annually.
All individuals in a CDP who have contact with children have completed a DD Form X656 “Basic Criminal History and Statement of Admission”.
The DoD Child Abuse and Safety Hotline telephone number is displayed in a highly visible area where parents can see it. The telephone number is published in parent materials.
Children are never left alone with a visitor or another adult who is not authorized to care for children.
There is a guidance policy in place, and providers do not use corporal punishment or other negative discipline methods that hurt, humiliate, or frighten children.

Table 3—ERIS
Oversight
The State Child Care Licensing/Regulating Agency conducts an annual on-site inspection of the facility and program.
SCR 01—Staff-Child Ratio/Group Size (SCR)
Standard
SCR 01.01 | RATIO (number of children per child care provider/staff). Ratios must be equal to or lower than:
| 1:4 or less for infants (birth to 12 months).
| 1:5 or less for pre-toddlers (13-24 months).
| 1:7 or less for toddlers (25-36 months).
| 1:12 or less for preschool (37 months-5 years).
| 1:15 or less for school age (6-12 years).
SCR 01.02 | GROUP SIZE (the total number of children within various age groups). Group size must be equal to or lower than:
| Eight or less for infants (birth to 12 months) with two caregiving staff per eight infants.
| Ten or less for pre-toddlers (13-24 months) with two caregiving staff per ten pre-toddlers.
| Fourteen or less for toddlers (25-36 months) with two caregiving staff per fourteen toddlers.
| Twenty four or less for preschool (27 months-5 years) with two caregiving staff per twenty four preschoolers.
| Twenty four/thirty or less for school age (6-12 years) with two caregiving staff per twenty four/thirty school agers.
SCR 01.03 | MULTI-AGE GROUPINGS (more than one age group in a room). No more than TWO AGE GROUPs may be combined within 18 month range (THIS DOES NOT APPLY TO SAC). Each age group is represented by appropriate ratio. Examples: two caregiving staff: four infants and five pre-toddlers; twp caregiving staff: five pre-toddlers and seven toddlers; two caregiving staff: seven toddlers and twelve preschoolers.
BAC 02—Background Check/Child Abuse Prevention (BAC)
Standard
BAC 2.01 | Background checks are completed and documented for each employee or regular volunteer who is in contact with children, including management, administration, classroom, support staff, and individuals contracted for hire.
BAC 02.02 | Background checks are renewed and documented every 5 years for each employee or regular volunteer who is in contact with children, including management and administration, classroom staff, and support staff.
BAC 02.03.a | Background checks include documentation of State Criminal History Repository completed for all states that an employee or prospective employee lists as current and former residences, in an employment application by using fingerprints.
BAC 02.03.b | Background checks include documentation of FBI fingerprint check and name-based criminal history records check of law enforcement records completed for any States lived in by applicant during the past 5 years.
BAC 02.03.c | Background checks include documentation of a review of the State Child Abuse Registry.
BAC 02.03.d | Background checks include a review of the State Sex Offender Registry.
BAC 02.04 | Each employee and regular volunteer is trained annually about child abuse prevention, common symptoms, and signs of child abuse.
BAC 02.05 | All employees and regular volunteers are trained annually on HOW to report, WHERE to report, and WHEN to report possible child abuse or neglect.
SR 03—Staff Requirements (SR)
Standard
SR 03.01.a | Director has a minimum of a Bachelor's Degree (BA) in childhood education, child development, social work, nursing, or other child-related field AND experience working with the age groups enrolled in the program.
| In the event that the director does not have a BA degree in those areas, the director must have an AA degree and must be working toward the completion of a BA degree.
SR 03.01.b | The director is not responsible for a classroom of children.
SR 03.02 | The direct care personnel are at least 18 years old and have a high school diploma or a graduation equivalency diploma (GED).
TRG 04—Training Requirements (TRG)
Standard
TRG 04.01 | Orientation is provided for each staff member and includes training on the following: early childhood development and education; child abuse recognition, prevention, and reporting; safety; first aid; proper hygiene; and positive guidance.
TRG 04.02.a | There is an annual training plan for directors. Topics shall include, but are not limited to:
| Child abuse prevention and positive guidance.
| Universally accepted health and safety practices to include hand washing.
| Emergency preparedness and evacuation procedures.
| Social and emotional needs of children.
| Developmentally appropriate practices.
| General management practices, such as financial management, facility management, staff development, and working with parents.
| Safe sleep practices.
TRG 04.02.b | There is an annual training plan for staff that include topics such as:
| Child abuse prevention and positive guidance.
| Universally accepted health and safety practices to include hand washing.
| Social and emotional needs of children.
| Developmentally appropriate practices.
TRG 04.03 | Staff complete forty hours of initial orientation training within the first three months.
TRG 04.04 | Staff are required to complete at least 24 hours of training per year.
TRG 04.05 | At least one staff member certified in emergency pediatric first aid treatment, including CPR for infants and children and emergency management of choking, is present in the facility during hours of operation.
IMM 05—Immunizations (IMM)
Standard
IMM 05.01 | Children's records include EITHER:
| Documentation of current age-appropriate immunizations, as recommended by the AAP; OR
| A letter of exception on file and a statement of medical religious exception.
IMM 05.02 | Staff files include a copy of a TB screening. Also included is documentation of a general health assessment or a physical examination completed during employment in-processing. Information is available at: http://www.cdc.gov/media/.
SUP 06—Supervision/Guidance (SUP)
Standard
SUP 06.01.a | The written policies and practices of the program specify that staff supervise children at all times, including nap times. No child is left alone or unsupervised.
SUP 06.01.b | The written policies and practices of the program specify that children are released only to persons listed on the child's registration form or for whom the parents have provided written authorization.
SUP 06.01.c | The written policies and practices of the program specify that parent, or authorized adult, signs children in and out upon arrival and departure each day, and attendance records are kept.
| A system is in place for accounting for school-age arriving from school or other activities without the parent (for example, children transported to the program by a school bus).
SUP 06.02 | Organizational policy prohibits: punishment by spanking or hitting or other physical means, to include corporal punishment; isolation from adult sight; confinement, binding, humiliation, or verbal abuse; deprivation of food and water, outdoor play or activities, or other program components; inappropriate touch; and punishment for lapses in toilet training or refusing food.
DRL 07—Evacuation and Fire Drills (DRL)
Standard
DRL 07.01 | The program has a written plan for emergency evacuation (for example, a plan for evacuating building occupants in case of fire, tornado, earthquake, hurricane, or other disaster that could pose a health and safety hazard).
DRL 07.02 | Procedures are in place to ensure all children in attendance are accounted for during an evacuation drill or event.
DRL 07.03 | There is an automatic fire detection and alarm system in place, and it is operational.
DRL 07.04 | A fire extinguisher is accessible and in operating condition.
DRL 07.05 | Fire and emergency evacuation drill procedures are practiced at least monthly.
HWD 08—Hand Washing and Diapering (HWD)
Standard
HWD 08.01 | Policies are in place to ensure staff and children wash their hands with soap and warm running water:
| Before eating or food preparation.
| After toileting or changing diapers.
| After handling animals, and after any other activity when the hands may become contaminated to include returning from outside.
HWD 08.02 | Toileting and diapering areas are not located in food preparation areas. The areas are in easily visible locations and are sanitary.
MED 09—Medication and Health (MED)
Standard
| If the program does not administer medications, proceed to 09.02.
MED 09.01.a | The program has a written policy and clear procedures on administering medicine, proper storage, and labeling.
MED 09.01.b | If medication (prescription and/or over-the-counter) is administered, written parental permission is kept on file and instructions from a physician are required (“N/A” is allowed if no children currently receive medication).
MED 09.01.c | Designated staff are trained to administer the medicine, and the training is updated annually.
MED 09.02 | First aid kits are readily available and maintained.
MED 09.03.a | Programs provide healthy meals and snacks consistent the U.S. Dietary Guidelines and are encouraged to participate in the USDA CACFP.
MED 09.03.b | Programs are encouraged to limit sugar-sweetened juices, beverages, and snacks, and high-fat and high-salt foods.
MED 09.04 | Bottle-feeding is done in such a way to minimize disease and promote interaction. For example, infants are held for bottle-feeding, bottles are never propped, never heated in a crock pot or microwave, and infants are never put to sleep with a bottle.
EMG 10—Emergency Plan/Contact Information (EMG)
Standard
EMG 10.01.a | There is a written plan for reporting and managing a lost or missing child.
EMG 10.01.b | There is a written plan for reporting and managing injuries requiring medical or dental care, including hospitalization or serious injury.
EMG 10.01.c | There is a written plan for reporting and managing abuse or neglect of a child.
EMG 10.01.d | There is a written policy that requires all parents to provide emergency information to include:
| Multiple contact phone numbers (work, cellular, home).
| Emergency contact phone numbers (relatives or friends) authorized to pick up the child if parent cannot be reached.
| The child's physician, dentist, and emergency room preference.
OUT 11—Outdoor Play Area (OUT)
Standard
OUT 11.01 | The playground and all equipment are maintained in safe, clean condition, in good repair, and there are no observable safety hazards and no entrapment areas.
OUT 11.02 | Playground equipment is surrounded by resilient surfaces (e.g., fine, loose sand, wood chips, wood mulch) of an acceptable depth (9 inches) or by rubber mats manufactured for such use.
OUT 11.03 | The playground equipment is arranged to ensure that a child is visible and supervision is maintained.
OUT 11.04 | There is a plan to check and inspect playgrounds on a weekly basis. Each staff member is responsible for immediately reporting hazards or unsafe areas to the director.
HAZ 12—Hazardous Materials and General Safety (HAZ)
Standard
HAZ 12.01 | Accident protection and liability insurance coverage are maintained for children and adults.
HAZ 12.02 | All chemicals and potentially dangerous products, such as medicine or cleaning supplies are stored in original, labeled containers in locked cabinets inaccessible to children.
HAZ 12.03 | Poisonous or potentially harmful plants on the premises are inaccessible to children.
HAZ 12.04 | Children are protected from accidental drowning by limiting access to all bodies of water.
HAZ 12.05 | Electrical outlets are covered in all areas accessible to children, including corridors.
HAZ 12.06 | Toys and art supplies are made of safe, non-toxic, durable, and cleanable materials.
HAZ 12.07 | There are no items that could cause choking or strangulation. Additional information is available at: http://www.cpsc.gov/.
HAZ 12.08.a | Infants are placed on their backs for sleeping to lower the risk of SIDS.
HAZ 12.08.b | Staff make sure that soft surfaces such as pillows, quilts, thick blankets, and soft bumpers are not used in the crib.
HAZ 12.09 | The building has been inspected for dangerous substances such as lead, radon, formaldehyde, asbestos, etc., in accordance with State requirements.
PAR 13—Parent Involvement (PAR)
Standard
PAR 13.01 | Families are offered an orientation and information prior to enrolling to include: hours of operation, enrollment policies, program costs, inclusion of special needs children, and opportunities for parent involvement.
PAR 13.02 | The program policy clearly includes open door policy; family members are welcome visitors in the program at all times.
PAR 13.03 | The program provides opportunities for communication between parents and staff verbally or in writing on a daily basis.
DEV 14—Developmentally Appropriate Environment and Materials (DEV)
Standard
DEV 14.01 | Classrooms are arranged to facilitate a variety of activities for each age group and provide areas where children can play and work independently or with friends.
DEV 14.02 | Classrooms are well lit, ventilated, and kept at a comfortable temperature.
DEV 14.03.a | Staff offer a variety of developmentally appropriate activities and materials for children indoors and outdoors that are respective of children's race, gender, religion, family background, culture, age, and special needs and include:
| Language and literacy.
| Physical development.
| Health, safety, and nutrition.
| Creative expression.
| Cognitive development.
| Social and emotional development.
DEV 14.03.b | Weekly classroom schedules include opportunities for alternating periods of quiet and active play, child-initiated and teacher-initiated activity, and individual, small group, and large group activities. Schedules are available for parents to review.
DEV 14.03.c | Programs provide an opportunity for physical activity on a daily basis.
DEV 14.03.d | Screen time (e.g., non-active video games) and the use of passive media (e.g., television, audio tapes) are limited and developmentally appropriate.

Dated: May 9, 2014.
Aaron Siegel,
Alternate OSD Federal Register Liaison Officer, Department of Defense.

[FR Doc. 2014-11105 Filed 5-15-14; 8:45 am]

BILLING CODE 5001-06-P